SMALL BUSINESS ADMINISTRATION

Revision of Privacy Act System of Records

AGENCY: Small Business Administration.

ACTION: Notice of revision of Agency's System of Records pursuant to the provisions of the Privacy Act and to open comment period.

SUMMARY: This notice provides for review and comment on a major revision of the Agency's Privacy Act Systems of Records. Four of the former Systems have been eliminated and four new Systems have been developed. The numbers of all of the Systems have also been changed. All Systems now include electronic formats and access and a new routine use which allows for disclosure to Agency volunteers, interns, experts and contractors when necessary for their official duties. The title of System 8 has been changed to Correspondence and Inquires, and there is a new category of records for System 14, Freedom of Information and Privacy Act Records. The title of System 21 has been changed to the Loan System and a new routine use, (j), for the system is included.

DATES: Written comments on the System of Records must be received on or before October 29, 2004. The notice shall be effective as proposed with or without further publication at the end of the comment period, unless comments are received which would require contrary determination.

ADDRESSES: Written comments on the System of Records should be directed to Lisa J. Babcock, Chief, Freedom of Information/Privacy Acts Office, U. S. Small Business Administration, 409 3rd Street, SW., Washington, DC 20416.

FOR FURTHER INFORMATION CONTACT: Lisa J. Babcock, Chief, Freedom of Information/Privacy Acts Office, (202) 401-8203.

SUPPLEMENTARY INFORMATION: This publication is in accordance with the Privacy Act stipulation that Agencies publish their Systems of Records in the Federal Register when there is a revision, change or addition.

Altered Systems of Records; Narrative Statement; U.S. Small Business Administration, Privacy Act System of Records SBA 14, Freedom of Information and Privacy Act Records; Addition of a New Category of Records

A. Narrative Statement

1. The purpose of adding a new category of records to Privacy Act System of Records 14 is to include the Agency's FOI/PA Tracking System that will be used to record and monitor all FOI/PA requests, appeals and inquiries. The Tracking System will be accessed by the FOI/PA Office and their designated contacts in each SBA program and field office. The FOI/PA contacts will have access only to data pertaining to the FOI/PA cases assigned to their office. The FOI/PA Office will have access to all data in the Tracking System.

2. Refer to the following citations: 5 U.S.C. 301, 44 U.S.C. 3101, 15 U.S.C. 634(b)6.

3. The effect on the individual FOI/PA requester and appellant will be minimal. The information contained in the FOI/PA files will be viewed only by Agency personnel, contractors, experts, consultants or volunteers in the line of their official duties. These individuals must comply with the requirements of the PA of 1974, as amended, pursuant to 5 U.S.C. 552a(m).

4. Access and use of FOI/PA files is limited to specified individuals who have a need to know to accomplish their duties. The FOI/PA Tracking System will be accessed via restricted passwords and user identifications.

5. The new proposed category of records use satisfies the compatibility requirement of subsection (a)(4) of the Act as the FOI/PA Tracking System is a “collection, or grouping of information about an individual that is maintained by an agency” and “contains his name, or the identifying number, symbol, or other identifying particular assigned to the individual.”

6. This is an internal information collection. The Agency deems the OMB approved information collection requirements unnecessary.

Altered Systems of Records; Narrative Statement; U.S. Small Business Administration, Privacy Act System of Records SBA 21, Loan System; Change of System Name and the Addition of a New Routine Use

B. Narrative Statement

1. The name of the former Privacy Act System of Records 21, Loan Monitoring System is changed to the Loan System. The purpose of adding a new routine use to Privacy Act System of Records 21 is to allow for the disclosure of records from this System to 7(a) and 504 lenders and/or participating contractors for purposes of the Agency's Loan and Lender Monitoring System.

2. Refer to the following citations: Public Law 85-536, 15 U.S.C. 631 et seq. (Small Business Act, all provisions relating to loan programs); 44 U.S.C. 3101 (Records Management by Federal Agencies); and Public Law 103-62 (Government Performance and Results Act).

3. The effect on the individual is minimal because the information collected is already being collected by the Department of Treasury Financial Management Service, by the SBA under previously approved manual form and by the SBA's previously established and published Privacy Act System or Records 170, Loan Monitoring System. The information contained in the System will be viewed only by Agency personnel, participating contractors and lenders in the line of their official duties. All of these individuals must comply with the requirements of the PA of 1974, as amended, pursuant to 5 U.S.C. 552a(m).

4. Access and use of Lender System records is limited to Agency officials acting in their official capacities, with a need-to-know, and to SBA Resource Partners and participating contractors. Access and use by SBA Resource Partners and participating contractors will generally be via the Internet, with restricted password(s)/passcode(s).

5. The new proposed routine use satisfies the compatibility requirement of subsection (a)(7) of the Act as follows:

The proposed routine use allows disclosure to 7(a) and 504 lenders and/or participating contractors for purposes of the Loan and Lender Monitoring system (L/LMS). SBA needs to share relevant information with SBA lenders and contractors so that those entities can assist SBA in decisions regarding the making and servicing of business (non-disaster) loans. The information is collected by SBA to assist in its decisions regarding the making and servicing of loans.

6. OMB approved SBA 3245-0016—Application for Business Loans (SBA Form 4, Schedule A, Form 4-1, Form 4L) on 11/7/2001.

Appendix A

Headquarters: 409 Third St., SW., Washington, DC 20416.

Boston Regional Office: 10 Causeway St., Suite 812, Boston, MA 02222-1093.

New York Regional Office: 26 Federal Plaza, Suite 3108, New York, NY 10278.

Philadelphia Regional Office: 900 Market St., 5th Floor, Philadelphia, PA 19107.

Atlanta Regional Office: 233 Peachtree St., NE., South Tower, Suite 496, Atlanta, GA 30303.

Chicago Regional Officec: 500 West Madison St., Suite 1250, Chicago, IL 60661-2511.

Dallas Regional Office: 4300 Amon Carter Blvd., Suite 114, Fort Worth, TX 76155.

Kansas City Regional Office: 323 West 8th St., Suite 307, Kansas City, MO 64105.

Denver Regional Office: 721 19th St., Suite 101, Denver, CO 80202.

San Francisco Regional Office: 455 Market St., Suite 2200, San Francisco, CA 94105.

Seattle Regional Office: 1200 Sixth Ave., Suite 1805, Seattle, WA 98101-1128.

SBA District Offices

Region I

Maine District Office: 40 Western Ave., Room 512, Augusta, ME 04330.

Massachusetts District Office: 10 Causeway St., Suite 265, Boston, MA 02222-1093.

New Hampshire District Office: 55 Pleasant St., Suite 3101, Concord, NH 03301.

Connecticut District Office: 330 Main St., 2nd Floor, Hartford, CT 06106.

Vermont District Office: 87 State St., Suite 205, Montpelier, VT 05602.

Rhode Island District Office: 380 Westminster Mall, 5th Floor, Providence, RI 02903.

Springfield Branch Office: 1441 Main St., Suite 410, Springfield, MA 01103.

Region II

Buffalo District Office: 111 West Huron St., Room 1311, Buffalo, NY 14202.

Elmira Branch Office: 333 E. Water St., 4th Floor, Elmira, NY 14901.

Melville Branch Office: 35 Pinelawn Road, Suite 207, Melville, NY 11747.

New Jersey District Office: Two Gateway Center, 15th Floor, Newark, NJ 07102.

New York District Office: 26 Federal Plaza, Rm. 3108, New York, NY 10278.

Puerto Rico & Virgin Islands District Office: 252 Ponce De Leon Blvd., Hato Rey, Puerto Rico 00918.

Rochester Branch Office: 100 State Street, Suite 410, Rochester, NY 14614.

Syracuse District Office: 401 South Salina St., 5th Floor, Syracuse, NY 13202.

St. Croix Branch Office: Sunny Isle Professional Building, Suites 5&6, Christiansted, VI 00820.

St. Thomas Branch Office: 3800 Crown Bay Street, St. Thomas, VI 00802.

Region III

Baltimore District Office: 10 S. Howard St., Suite 6220, Baltimore, MD 21201-2525.

Charleston Branch Office: 405 Capitol St., Suite 412, Charleston, WV 25301.

West Virginia District Office: Federal Center, Suite 330, 320 West Pike St., Clarksburg, WV 26301.

Harrisburg Branch Office: 100 Chestnut St., Suite 107, Harrisburg, PA 17101.

Philadelphia District Office: 900 Market St., 5th Floor, Philadelphia, PA 19107.

Pittsburgh District Office: Federal Building, Rm. 1128, 1000 Liberty Ave., Pittsburgh, PA 15222-4004.

Richmond District Office: 400 North 8th St., 11th Floor, Richmond, VA 23240-0126.

Washington District Office: 1110 Vermont Ave., NW., Suite 900, Washington, DC 20005.

Wilkes-Barre Branch Office: 7 North Wilkes-Barre Blvd, Suite 407, Wilkes-Barre, PA 18702.

Delaware District Office: 1318 North Market, Wilmington, DE 19801-3011.

Region IV

Georgia District Office: 233 Peachtree Rd., NE., Suite 1800, Atlanta, GA 30303.

Alabama District Office: 801 Tom Martin Dr., Suite 201, Birmingham, AL 35211.

North Carolina District Office: 6302 Fairview Rd., Suite 300, Charlotte, NC 28210-2227.

South Carolina District Office: 1835 Assembly St., Rm. 358, Columbia, SC 29201.

Gulfport Branch Office: 2909 13th St., Suite 203, Gulfport, MS 39501-1949.

Mississippi District Office: 210 E. Capitol St., Suite 210E, Jackson, MS 39201.

Jacksonville—North Florida District Office: 7825 Baymeadows Way., Suite 100-B, Jacksonville, FL 32256-7504.

Kentucky District Office: 600 Dr. M.L. King Jr. Place, Rm. 188, Louisville, KY 40202.

Miami—South Florida District Office: 100 S. Biscayne Blvd, 7th Floor, Miami, FL 33131.

Tennessee District Office: 50 Vantage Way, Suite 201, Nashville, TN 37228-1500.

Region V

Illinois District Office: 500 West Madison St., Chicago, IL 60661-2511.

Cincinnati Branch Office: 525 Vine St., Suite 870, Cincinnati, OH 45202.

Cleveland District Office: 1111 Superior Ave., Suite 630, Cleveland, OH 44114-2507.

Columbus District Office: 2 Nationwide Plaza, Suite 1400, Columbus, OH 43215-2542.

Michigan District Office: 477 Michigan Ave., Suite 515, Detroit, MI 48226.

Indiana District Office: 429 North Pennsylvania St., Suite 100, Indianapolis, IN 46204-1873.

Wisconsin District Office: 310 West Wisconsin Ave., Suite 400, Madison, WI 53203.

Minnesota Branch Office: 100 North 6th St., 210-C, Minneapolis, MI 55403.

Wisconsin Branch Office: 310 West Wisconsin Ave., Milwaukee, WI 53203.

Minnesota District Office: 100 North 6th St., Minneapolis, MN 55403-1563.

Springfield Branch Office: 511 W. Capitol Ave., Suite 302, Springfield, IL 62704.

Region VI

New Mexico District Office: 625 Silver Ave., SW., Suite 320, Albuquerque, NM 87102.

Corpus Christi Branch Office: 3649 Leopard St., Suite 411, Corpus Christi, TX 78408.

Dallas/Ft. Worth District Office: 4300 Amon Carter Blvd., Suite 108, Dallas, TX 76155.

El Paso District Office: 10737 Gateways West, Suite 320, El Paso, TX 79935.

Houston District Office: 8701 S. Gessner Dr., Suite 1200, Houston, TX 77074.

Arkansas District Office: 2120 Riverfront Dr., Suite 100, Little Rock, AR 72202.

Lower Rio Grande Valley District Office: 222 E. Van Buren St., Rm. 500, Harlingen, TX 78550-6855.

Lubbock District Office: 1205 Texas Ave., Suite 408, Lubbock, TX 79401-2693.

New Orleans District Office: 365 Canal St., Suite 2820, New Orleans, LA 70130.

Oklahoma District Office: 301 Northwest 6th St., Suite 116, Oklahoma City, OK 73102.

San Antonio District Office: 727 E. Durango Blvd., 5th Floor, San Antonio, TX 78206.

Region VII

Cedar Rapids Branch Office: 215 4th Ave., SE., Suite 200, Cedar Rapids, IA 52401-1806.

Des Moines District Office: 210 Walnut St., Room 749, Des Moines, IA 50309-2186.

Kansas City District Office: 323 West 8th Ave., Suite 501, Kansas City, MO 64105-1500.

Nebraska District Office: 11145 Mill Valley Rd., Omaha, NB 68154.

Springfield Branch Office: 830 East Primrose, Suite 101, Springfield, MO 65807-52540.

St. Louis District Office: 815 Olive Street, St. Louis, MO 63101.

Wichita District Office: 271 West Third St., Suite 2500, Wichita, KS 67202-1212.

Region VIII

Wyoming District Office: 100 East B Street, Rm. 4001, Casper, WY 82601.

Denver District Office: 721 19th St., Suite 426, Denver, CO 80202.

North Dakota District Office: 657 Second Ave. North, Room 219, Fargo, ND 58108.

Montana District Office: 10 West 15th St., Suite 1100, Helena, MT 59626.

Utah District Office: 125 South State St., Room 2237, Salt Lake City, UT 84138.

South Dakota District Office: 2329 North Career Ave., Suite 105, Sioux Falls, SD 57107.

Region IX

Agana Branch Office: 400 Route 8, Suite 302, Hagatna, GU 96910-2003.

Fresno District Office: 2719 North Air Fresno Dr., Suite 200, Fresno, CA 93727-1547.

Hawaii District Office: 300 Ala Moana Blvd., Rm. 2-235, Honolulu, HI 96850-4981.

Nevada District Office: 300 Las Vegas Blvd., Suite 110, Las Vegas, NV 89101.

Los Angeles District Office: 330 North Brand Blvd., Suite 1200, Glendale, CA 91203-2304.

Arizona District Office: 2828 North Central Ave., Suite 800, Phoenix, AZ 85004-1025.

Sacramento District Office: 650 Capital Mall, Suite 7-500, Sacramento, CA 95814-2413.

San Diego District Office: 550 West C St., Suite 550, San Diego, CA 92101-3500.

San Francisco District Office: 455 Market St., 6th Floor, San Francisco, CA 94105-2445.

Santa Ana District Office: 200 West Santa Ana Blvd., Suite 700, Santa Ana, CA 92701.

Region X

Alaska District Office: 50 L St., Suite 310, Anchorage, AK 99501.

Boise District Office: 380 East Parkcenter Blvd., Boise, ID 83706.

Portland District Office: 1515 S.W. 5th Ave., Suite 1050, Portland, OR 97201-5494.

Seattle District Office: 1200 6th Ave., Rm. 1700, Seattle, WA 98101-1128.

Spokane Branch Office: 801 West Riverside, Suite 200, Spokane, WA 99201.

Spokane District Office: 801 West Riverside Ave., Suite 200, Spokane, WA 99201-0901.

SBA Area Disaster Offices

Disaster Area 1 Office: 360 Rainbow Blvd., South, 3rd Floor, Niagara Falls, NY 14303.

Disaster Area 2 Office: One Baltimore Place, NE., Suite 300, Atlanta, GA 30308.

Disaster Area 3 Office: 14925 Kingsport Rd., Fort Worth, TX 76155-2643.

Disaster Area 4 Office: P.O. Box 419004, Sacramento, CA 95841-9004, or 6501 Sylvan Rd., Citrus Heights, CA 95610-5017.

SBA Home Loan Servicing Centers

Birmingham Home Loan Servicing Center: 2121 8th Ave. North, Suite 200, P.O. Box 12247, Birmingham, AL 35202-2247.

New York Home Loan Servicing Center: 201 Varick St., Rm. 628, New York, NY 10014.

El Paso Home Loan Servicing Center: 10737 Gateway West, Suite 300, El Paso, TX 79935.

Santa Ana Loan Servicing & Liquidation Office: 200 W. Santa Ana Blvd., Santa Ana, CA 92701.

Commercial Loan Servicing Centers

Fresno Commercial Loan Servicing Center: 2719 N. Fresno Dr., Suite 107, Fresno, CA 93727-1547.

Little Rock Commercial Loan Servicing Center: 2120 Riverfront Dr., Suite 100, Little Rock, AR 72202.

Office of the Inspector General

Office of Inspector General, 409 Third Street, SW., Washington, DC 20416.

Office of Inspector General Investigation Division, 409 Third Street, SW., Washington, DC 20416.

Office of Inspector General Auditing Division, 409 Third Street, SW., Washington, DC 20416.

Atlanta Inspector General Auditing Division, 233 Peachtree St., NE., Atlanta, GA 30303.

Dallas/Fort Worth Inspector General Auditing, 4300 Amon Carter Blvd., Suite 116, Fort Worth, TX 76155-2654.

Los Angeles Inspector General Auditing Division, 330 North Brand Blvd., Suite 660, Glendale, CA 91203-2304.

Atlanta Inspector General Investigations Division, 233 Peachtree St., NE., Atlanta, GA 30303.

Chicago Inspector General Investigations Division, 500 West Madison St., Suite 3370, Chicago, IL 60661.

Dallas/Fort Worth Inspector General Investigations Division, 4300 Amon Carter Blvd., Suite 116, Fort Worth, TX 76155-2653.

Houston Investigations Division Resident Office, 9301 Southwest Freeway, Suite 550, Houston, TX 77074-1591.

Kansas City Inspector General Investigations Division, 323 W. 8th St., Room 305, Kansas City, MO 64105.

Los Angeles Inspector General Investigation Division, 330 North Brand Blvd., Suite 1280, Glendale, CA 91203-2304.

New York Inspector General Investigations Division, 26 Federal Plaza, Rm. 41-100, New York, NY 10278.

Philadelphia Inspector General Investigations Division, 625 Walnut St., Suite 860B-W, Philadelphia, PA 19106.

Seattle Inspector General Investigations Division, 1200 Sixth Ave., Suite 1807, Seattle, WA 98101-1128.

Syracuse Inspector General Investigations Division, 401 South Salina St., 5th Floor, Syracuse, NY 13202.

Table of Contents

SBA 1—Administrative Claims

SBA 2—Administrator's Executive Secretariat Files

SBA 3—Advisory Council Files

SBA 4—Office of Inspector General Records Other Than Investigations Records

SBA 5—Business and Community Initiatives Resource Files

SBA 6—Civil Rights Compliance Files

SBA 7—Combined Federal Campaign

SBA 8—Correspondence and Inquiries

SBA 9—Cost Allocation Data System

SBA 10—Employee Identification Card Files

SBA 11—Entrepreneurial Development—Management Information System

SBA 12—Equal Employment Opportunity Pre-Complaint Counseling

SBA 13—Equal Employment Opportunity Complaint Cases

SBA 14—Freedom of Information/Privacy Act Records

SBA 15—Grievance and Appeals Files

SBA 16—Investigative Files

SBA 17—Investigations Division Management Information System

SBA 18—Legal Work Files on Personnel Cases

SBA 19—Litigation and Claims Files

SBA 20—Disaster Loan Case Files

SBA 21—Loan System

SBA 22—Outside Employment Files

SBA 23—Payroll Files

SBA 24—Personnel Security Files

SBA 25—Portfolio Review Files

SBA 26—Power of Attorney Files

SBA 27—Security and Investigations Files

SBA 28—Small Business Persons and Advocate Awards

SBA 29—Standards of Conduct

SBA 30—Servicing and Contracts System/Minority Enterprise Development Headquarters Repository

SBA 31—Temporary Disaster Employee Files

SBA 32—Tort Claims

SBA 33—Travel Files

SBA 1

SYSTEM NAME:

Administrative Claims—SBA 1.

SYSTEM LOCATION:

Headquarters (HQ) and Field Offices.

CATEGORIES OF INDIVIDUALS COVERED BY THE SYSTEM INCLUDES:

Individuals involved in accidents or other incidents of loss or damage to government property.

CATEGORIES OF RECORDS IN THE SYSTEM:

Case report and supporting materials compiled in cases that involve loss or damage to government property. Records of claims up to $5,000 are in District Offices; claims more than $5,000 are in the Office of General Counsel (OGC).

AUTHORITY FOR MAINTENANCE OF THE SYSTEM:

15 U.S.C. 634 (b)(1), 28 CFR 14.11.

ROUTINE USES OF RECORDS MAINTAINED IN THE SYSTEM, INCLUDING CATEGORIES OF USERS AND THE PURPOSES OF SUCH USES, THESE RECORDS MAY BE USED, DISCLOSED OR REFERRED:

a. To the General Services Administration, the court and other parties in litigation, when a suit has been initiated.

b. To a Congressional office from an individual's record, when the office is inquiring on the individual's behalf; the Member's access rights are no greater than the individual's.

c. To Agency volunteers, interns, grantees, experts and contractors who have been engaged by the Agency to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name of involved individual(s).

SAFEGUARDS:

Access and use is limited to persons with official need to know; computers are protected by password and user identification codes.

RETENTION AND DISPOSAL:

In accordance with National Archives and Records Administration General Records Schedule 6.10.

SYSTEM MANAGER(S) AND ADDRESS:

HQ and Field Systems Managers. See Appendix A.

NOTIFICATION PROCEDURE:

An individual may submit a record inquiry either in person or in writing to either the Systems Manager or PA Officer.

ACCESS PROCEDURES:

Systems Manager or PA Officer will determine procedures.

CONTESTING PROCEDURES:

Notify the official listed above and state reason(s) for contesting and the proposed amendment sought.

SOURCE CATEGORIES:

Involved individuals, witnesses and Agency investigation.

SBA 2

SYSTEM NAME:

Administrator's Executive Secretariat Files—SBA 2.

SYSTEM LOCATION:

Headquarters (HQ). See Appendix A.

CATEGORIES OF INDIVIDUALS COVERED BY THE SYSTEM INCLUDES:

Individuals who correspond with the SBA Administrator.

CATEGORIES OF RECORDS IN THE SYSTEM:

Correspondence in Controlled Documents System from October 1, 1987.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To oversee and maintain Agency correspondence with Government officials, Members of Congress, and the public.

b. To oversee and maintain memoranda or documents detailing policy and operational decisions made by the Administrator.

c. To a Congressional office from an individual's record, when the office is inquiring on the individual's behalf; the Member's access rights are no greater than the individual's.

d. To Agency volunteers, interns, grantees, experts and contractors who have been engaged by the Agency to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

f. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By document number, can be cross-referenced by name, subject, keyword, phrase, date, constituent and organizational name.

SAFEGUARDS:

Access and use is limited to persons with official need to know; computers are protected by password and user identification codes.

RETENTION AND DISPOSAL:

In accordance with Standard Operating Procedure 00 41 2 00:01.

SYSTEM MANAGER(S) AND ADDRESS:

Executive Secretariat, HQ. See Appendix A.

NOTIFICATION PROCEDURES:

An individual may submit a record inquiry in person or in writing to the Systems Manager or PA Officer.

ACCESS PROCEDURES:

Systems Manager or PA Officer will determine procedures.

CONTESTING PROCEDURES:

Notify the official listed above and state reason(s) for contesting and the proposed amendment sought.

SOURCE CATEGORIES:

Correspondence, memoranda authors, and other sources that could engender communication by the SBA Administrator.

SBA 3

SYSTEM NAME:

Advisory Council Files—SBA 3.

SYSTEM LOCATION:

Headquarters (HQ) and Field Offices. See Appendix A.

CATEGORIES OF INDIVIDUALS COVERED BY THE SYSTEM INCLUDES:

Current, former and prospective members of SBA Advisory Councils.

CATEGORIES OF RECORDS IN THE SYSTEM INCLUDES:

Information relating to members of SBA Advisory Councils.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To disclose information about an Advisory Council member to the public.

b. To respond to requests from the National Archives and Records Administration (NARA).

c. To a Congressional office from an individual's record, when the office is inquiring on the individual's behalf; the Member's access rights are no greater than the individual's.

d. To Agency volunteers, interns, grantees, experts and contractors who have been engaged by the Agency to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

f. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name.

SAFEGUARDS:

Access and use is limited to persons with official need to know; computers are protected by password and user identification codes.

RETENTION AND DISPOSAL:

In accordance with Standard Operating Procedure 00 41 2 95:01.

SYSTEM MANAGER(S) AND ADDRESS:

Field Office Systems Managers. See Appendix A.

NOTIFICATION PROCEDURE:

An individual may submit a record inquiry either in person or in writing to the Systems Manager for Field Office Records or PA Officer for HQ Records.

ACCESS PROCEDURES:

Systems Manager or PA Officer will determine procedures.

CONTESTING PROCEDURES:

Notify the official listed above and state reason(s) for contesting and the proposed amendment sought.

SOURCE CATEGORIES:

Record subject, Congressional offices, Agency employees, media, Advisory Council members, Federal Register.

SBA 4

SYSTEM NAME:

Office of Inspector General Records Other Than Investigations Records—SBA 4.

SYSTEM LOCATION:

Office of the Inspector General (OIG) Investigations Division, Audit Division, Headquarters (HQ) duty stations, Agency District and Field Offices and Federal Records Center (FRC). See Appendix A.

CATEGORIES OF INDIVIDUALS COVERED BY THE SYSTEM INCLUDES:

Individuals covered by the system include the assigned auditor or evaluator, other OIG staff, the audit or evaluation requestor, the interviewee, persons examined by the audit and persons providing information used by the auditors.

CATEGORIES OF RECORDS IN THE SYSTEM INCLUDES:

Records consist of materials compiled and/or generated in connection with audits, evaluations, and other non-audit services performed by OIG staff. These materials include information regarding the planning, conduct, and resolution of audits and evaluations of SBA programs and participants in those programs, information requests, responses to such requests, reports of findings, etc.

AUTHORITY FOR MAINTENANCE OF THE SYSTEMS:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, opposing counsel during such proceedings or in settlement negotiations when presenting evidence.

c. To any private or governmental source or person, to secure information relevant to an investigation or audit.

d. To other Federal agencies conducting background checks, to the extent that the information is relevant to their function.

e. To any domestic, foreign, international or private agency or organization, including those which maintain civil, criminal or other enforcement information, for the assignment, hiring or retention of an individual, issuance of a security clearance, reporting of an investigation of an individual, letting of a contract or issuance of a license, grant or other benefit, to the extent the information is relevant to the agency's decision on the matter.

f. To Federal, State or local bar associations and other professional, regulatory or disciplinary bodies for use in disciplinary proceedings and inquiries.

g. To a Congressional office from an individual's record, when the office is inquiring on the individual's behalf; the Member's access rights are no greater than the individual's.

h. To provide data to the General Accounting Office (GAO) for periodic reviews of SBA.

i. To the Office of Government Ethics for any purpose consistent with their mission.

j. To the General Accounting Office and to the General Services Administration's (GSA) Board of Contract Appeals in bid protest cases involving an agency procurement.

k. To any Federal agency which has the authority to subpoena other Federal agencies' records.

l. To the Department of the Treasury and the DOJ when an agency is seeking an ex parte court order to obtain taxpayer information from the Internal Revenue Service.

m. To debt collection contractors for collecting delinquent debts as authorized by the Debt Collection Act of 1982, 31 U.S.C. 3718.

n. To a “consumer reporting agency” as defined in the Fair Credit Reporting Act (15 U.S.C. 1681 a(f)) and the Federal Claims Collection Act of 1966 (31 U.S.C. 3701(a)(3)), to obtaining information during an investigation or audit.

o. To personnel responsible for Program Fraud Civil Remedies Act litigation, the tribunal and defendant's counsel.

p. To a grand jury agent pursuant to a Federal or State grand jury subpoena or to a prosecution request that records be introduced to a grand jury.

q. To the public under the Freedom of Information Act (FOIA), 5 U.S.C. 552.

r. To the DOJ to obtain advice regarding FOIA disclosure obligations.

s. To the Office of Management and Budget to obtain advice regarding PA obligations.

t. To a Congressional office from an individual's record, when the office is inquiring on the individual's behalf; the Member's access rights are no greater than the individual's.

u. To Agency volunteers, interns, grantees, experts and contractors who have been engaged by the Agency to assist in the performance of a service related to this system of records and who need access to the records in order to perform this activity. Recipients of these records shall be required to comply with the requirements of the Privacy Act of 1974, as amended, 5 U.S.C. 552a.

v. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

w. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name and cross-referenced to related IG Audit files.

SAFEGUARDS:

Sensitive reports are kept in locked filing cabinets, while others are provided lesser levels of security as appropriate.

RETENTION AND DISPOSAL:

Following final agency action as the result of an audit, records are maintained in the respective field offices for five years and then transferred to the FRC, which destroys them after 20 years. Alphabetical indices are maintained on all investigations for an indefinite period of time.

SYSTEM MANAGER(S) AND ADDRESS:

Assistant Inspector General for Auditing or designee. See Appendix A.

NOTIFICATION PROCEDURES:

An individual may submit a record inquiry in writing to the Systems Manager or PA Officer.

ACCESS PROCEDURES:

Systems Manager or PA Officer will determine procedures.

CONTESTING PROCEDURES:

Notify the official listed above and state reason(s) for contesting and the proposed amendment sought.

SOURCE CATEGORIES:

Subject individuals, Agency personnel, third parties, the FBI and other investigative Government agencies.

SYSTEMS EXEMPTED FROM CERTAIN PROVISIONS OF THE ACT:

Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

SBA 5

SYSTEM NAME:

Business and Community Initiatives Resource Files—SBA 5.

SYSTEM LOCATION:

Headquarters (HQ) and Field Offices. See Appendix A.

CATEGORIES OF INDIVIDUALS COVERED BY THE SYSTEM INCLUDES:

Users of Business and Community Initiatives training materials, potential speakers, counselors, authors and reviewers.

CATEGORIES OF RECORDS IN THE SYSTEM INCLUDES:

Information relating to individuals: Biographical sketches, correspondence, copies of travel vouchers and counseling reports, files of accomplishments, publications, news releases and clippings.

AUTHORITY FOR MAINTENANCE OF THE SYSTEM:

5 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To provide university coordinators with information about potential speakers at management training sessions.

b. To a Congressional office from an individual's record, when the office is inquiring on the individual's behalf; the Member's access rights are no greater than the individual's.

c. To Agency volunteers, interns, grantees, experts and contractors who have been engaged by the Agency to assist in the performance of a service related to this system of records and who need access to the records in order to perform this activity. Recipients of these records shall be required to comply with the requirements of the Privacy Act, as amended, 5 U.S.C. 552a.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name.

SAFEGUARDS:

Access and use is limited to persons with official need to know; computers are protected by password and user identification codes.

RETENTION AND DISPOSAL:

In accordance with Standard Operating Procedure 00 41 2 65:01, 65:02, 65:03, 65:04, 65:05, 65:07 and 65:09.

SYSTEM MANAGER(S) AND ADDRESS:

Field Office Director and PA Officer. See Appendix A.

NOTIFICATION PROCEDURE:

An individual may submit a record inquiry either in person or in writing to the Systems Managers for Field Office Records or PA Officer for HQ Records.

ACCESS PROCEDURES:

Systems Manager or PA Officer will determine procedures.

CONTESTING PROCEDURES:

Notify the official listed above and state reason(s) for contesting and the proposed amendment sought.

SOURCE CATEGORIES:

Record subject, Agency employees, media, educators, universities, professional and civic organizations.

SBA 6

SYSTEM NAME:

Civil Rights Compliance Files—SBA 6.

SYSTEM LOCATION:

Headquarters. See Appendix A.

CATEGORIES OF INDIVIDUALS COVERED BY THE SYSTEM INCLUDES:

SBA recipients of Federal financial assistance and individuals who have filed allegations of discrimination against SBA recipients of Federal financial assistance or against Agency programs or program offices based on disability.

CATEGORIES OF RECORDS IN THE SYSTEM INCLUDES:

Reviews, correspondence, supporting documents, interview statements, program files, information developed in allegation/complaint investigation.

AUTHORITY FOR MAINTENANCE OF THE SYSTEM:

44 U.S.C. 3101, Civil Rights Compliance SOP 90 30 3 and 13 CFR parts 112, 113, and 117.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when the office is inquiring on the individual's behalf; the Member's access rights are no greater than the individual's.

b. To Agency volunteers, interns, grantees, experts and contractors who have been engaged by the Agency to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

d. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By complainant's name, address and four digit fiscal year/order in which received during that fiscal year (four digit number is keyed to Complaint Log for that fiscal year).

SAFEGUARDS:

Access and use is limited to persons with official need to know; computers are protected by password and user identification codes.

RETENTION AND DISPOSAL:

In accordance with National Archives and Records Administration General Records Schedule 1.25.a and d(2).

SYSTEM MANAGER(S) AND ADDRESS:

Assistant Administrator for Equal Employment Opportunity and Civil Rights Compliance (EEO/CRC). See Appendix A.

NOTIFICATION PROCEDURE:

An individual may submit a record inquiry either in person or in writing to the Systems Manager or PA Officer.

ACCESS PROCEDURES:

Systems Manager or PA Officer will determine procedures.

CONTESTING PROCEDURES:

Notify the official listed above and state reason(s) for contesting and the proposed amendment sought.

SOURCE CATEGORIES:

SBA recipient of Federal financial assistance reviewed by EEO/CRC personnel and complainants.

SBA 7

SYSTEM NAME:

Combined Federal Campaign—SBA 7.

SYSTEM LOCATION:

Headquarters (HQ) Office and Field Offices. See Appendix A.

CATEGORIES OF INDIVIDUALS COVERED BY THE SYSTEM:

SBA employees.

CATEGORIES OF RECORDS IN THE SYSTEM INCLUDES:

Information pertaining to SBA employees involved with the campaign.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the public, the names and addresses of employees connected with the drive are released.

b. To a Congressional office from an individual's record, when the office is inquiring on the individual's behalf; the Member's access rights are no greater than the individual's.

c. To Agency volunteers, interns, grantees, experts and contractors who have been engaged by the Agency to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name and/or Social Security Number.

SAFEGUARDS:

Access and use is limited to persons with official need to know; computers are protected by password and user identification codes.

RETENTION AND DISPOSAL:

In accordance with National Archives and Records Administration General Record Schedule 2.15.

SYSTEM MANAGER(S) AND ADDRESS:

HQ and Field Office Supervisors. See Appendix A.

NOTIFICATION PROCEDURE:

An individual may submit a record inquiry either in person or in writing to the Systems Managers or PA Officer.

ACCESS PROCEDURES:

Systems Manager or PA Officer will determine procedures.

CONTESTING PROCEDURES:

Notify the official listed above and state reason(s) for contesting and the proposed amendment sought.

SOURCE CATEGORIES:

Subject employee.

SBA 8

SYSTEM NAME:

Correspondence and Inquiries—SBA 8.

SYSTEM LOCATION:

Headquarters (HQ) and Field Offices. See Appendix A.

CATEGORIES OF INDIVIDUALS COVERED BY THE SYSTEM INCLUDES:

Individuals who have corresponded with the Agency.

CATEGORIES OF RECORDS IN THE SYSTEM INCLUDES:

Correspondence.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To oversee and maintain correspondence to the Agency.

b. To a Congressional office from an individual's record, when the office is inquiring on the individual's behalf; the Member's access rights are no greater than the individual's.

c. To Agency volunteers, interns, grantees, experts and contractors who have been engaged by the Agency to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name of correspondent.

SAFEGUARDS:

Access and use is limited to persons with official need to know; computers are protected by password and user identification codes.

RETENTION AND DISPOSAL:

In accordance with Standard Operating Procedure 00 41 2 00:01.

SYSTEM MANAGER(S) AND ADDRESS:

PA Officer for HQ records and Field Managers for field records. See Appendix A.

NOTIFICATION PROCEDURES:

An individual may submit a record inquiry either in person or in writing to the Systems Manager or PA Officer.

ACCESS PROCEDURES:

Systems Manager or PA Officer will determine procedures.

CONTESTING PROCEDURES:

Notify the official listed above and state reason(s) for contesting and the proposed amendment sought.

SOURCE CATEGORIES:

Subject individual, Agency personnel, case files and Congressional correspondence.

SBA 9

SYSTEM NAME:

Cost Allocation Data System—9.

SYSTEM LOCATION:

Office of the Chief Financial Officer (CFO), Headquarters.

CATEGORIES OF INDIVIDUALS COVERED BY THE SYSTEM INCLUDES:

All SBA employees.

CATEGORIES OF RECORDS IN THE SYSTEM INCLUDES:

Individual information on all SBA employees, i.e., name, social security number, office code, pay dates, survey results on the percentage of time spent on administration of various SBA programs and activities. Also, Agency-wide costs, i.e., rent, postage, telecommunications, centralized printing, centralized training, employees' relocation costs, credit report costs, performance management appraisal system awards, contractors costs, Agency loan count and SBA employment full time equivalent counts.

AUTHORITY FOR MAINTENANCE OF THE SYSTEM:

44 U.S.C. 3101 (Records Management by Federal Agencies), Public Law 101-576 (Chief Financial Officers Act) and Public Law 103-62 (Government Performance and Results Act).

ROUTINE USES OF RECORDS MAINTAINED IN THE SYSTEM, INCLUDING CATEGORIES OF USERS AND THE PURPOSES OF SUCH USES, THESE RECORDS MAY BE USED, DISCLOSED OR REFERRED:

a. To the Agency cost contractor for use in the Agency's cost accounting activity.

b. To a Congressional office from an individual's record, when the office is inquiring on the individual's behalf; the Member's access rights are no greater than the individual's.

c. To Agency volunteers, interns, grantees, experts and contractors who have been engaged by the Agency to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

The electronic form is maintained in a database which is behind the Agency's firewall.

RETRIEVABILITY:

Employee's Social Security Number and first and last name retrieve survey result.

SAFEGUARDS:

Access and use of the CADS are accomplished via the use of restricted password. Access and use are limited to Project Leader and Group members and only those other Agency employees whose official duties require such access.

RETENTION AND DISPOSAL:

In accordance with National Archives and Records Administration General Records Retention Schedule 8.1, 8.5, 8.6, 8.7 and 8.8.

SYSTEM MANAGER(S) AND ADDRESS:

Chief Financial Officer, HQ. See Appendix A.

NOTIFICATION PROCEDURE:

An individual may submit a record inquiry either in person or in writing to the Systems Manager or PA Officer.

ACCESS PROCEDURES:

Systems Manager or PA Officer will determine procedures.

CONTESTING PROCEDURES:

Notify the official listed above and state reason(s) for contesting and the proposed amendment sought.

SOURCE CATEGORIES:

SBA employees.

SBA 10

SYSTEM NAME:

Employee Identification Card Files—SBA 10.

SYSTEM LOCATION:

Office of Human Capital Management (Headquarters), Denver Human Capital Management Operations Division and Disaster Area Offices (DAO). See Appendix A.

CATEGORIES OF INDIVIDUALS COVERED BY THE SYSTEM INCLUDES:

SBA employees.

CATEGORIES OF RECORDS IN THE SYSTEM INCLUDES:

Employee name and their identification card numbers.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when the office is inquiring on the individual's behalf; the Member's access rights are no greater than the individual's.

b. To Agency volunteers, interns, grantees, experts and contractors who have been engaged by the Agency to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

d. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name or identification card number.

SAFEGUARDS:

Access and use is limited to persons with official need to know; computers are protected by password and user identification codes.

RETENTION AND DISPOSAL:

In accordance with National Archives and Records Administration General Records Retention Schedule 1.6.

SYSTEM MANAGER(S) AND ADDRESS:

Assistant Administrator/Human Capital Management (HQ) and DAO Directors. See Appendix A.

NOTIFICATION PROCEDURES:

An individual may submit a record inquiry either in person or in writing to the Systems Manager or PA Officer.

ACCESS PROCEDURES:

Systems Manager or PA Officer will determine procedures.

CONTESTING PROCEDURES:

Notify the official listed above and state reason(s) for contesting and the proposed amendment sought.

SOURCE CATEGORIES:

Subject employee, individuals and agency personnel records.

SBA 11

SYSTEM NAME:

Entrepreneurial Development—Management Information System—SBA 11.

SYSTEM LOCATION:

Headquarters.

CATEGORIES OF INDIVIDUALS COVERED BY THE SYSTEM:

Individuals using SBA's business counseling and assistance services.

CATEGORIES OF RECORDS IN THE SYSTEM:

Individual and business information on SBA clients.

AUTHORITY FOR MAINTENANCE OF THE SYSTEM:

Public Law 85-536, 15 U.S.C. 631 (Small Business Act), sec. 7(j)(1), (Business Counseling), 15 U.S.C. 648 sec. 21 (Small Business Development Centers), 15 U.S.C. 656 sec. 29 (Women's Business Centers), Public Law 106-50 (Veterans' Entrepreneurship and Small Business Development Act of 1999), 44 U.S.C. 3101 (Records Management by Federal Agencies) and Public Law 103-62 (Government Performance and Results Act).

ROUTINE USES OF RECORDS MAINTAINED BY THE SYSTEM, INCLUDING CATEGORIES OF USERS AND THE PURPOSES OF SUCH USES, THESE RECORDS MAY BE USED, DISCLOSED OR REFERRED:

a. To the Agency service provider (resource partner) who initially collected the individual's information.

b. To a Congressional office from an individual's record, when the office is inquiring on the individual's behalf; the Member's access rights are no greater than the individual's.

c. To the Federal, state, local or foreign agency or organization which investigates, prosecutes, or enforces violations, statutes, rules, regulations, or orders issued when an agency identifies a violation or potential violation of law, arising by general or program statute, or by regulation, rule or order.

d. To Agency volunteers, interns, grantees, experts and contractors who have been engaged by the Agency to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

f. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Electronic form in secured database on a dedicated computer.

RETRIEVAL:

By SBA Customer Number and cross-referenced by individual or business name.

SAFEGUARDS:

Access and use over the Internet with a restricted numerical password. Access and use is limited to Federal officials with a need-to-know and to designated resource partners. SBA resource partners will have access only to those individuals that were collected by that particular resource partner. Designated program managers in HQ and district directors will have access to individual records only as needed for program management.

RETENTION AND DISPOSAL:

In accordance with EDMIS N1-309-03-06.

SYSTEM MANAGER(S) AND ADDRESS:

Associate Deputy Administrator for Entrepreneurial Development and designee in Headquarters.

NOTIFICATION PROCEDURES:

An individual may submit a record inquiry in person or in writing to the Systems Manager or PA Office.

ACCESS PROCEDURES:

The Systems Manager or PA Officer will determine procedures.

CONTESTING PROCEDURES:

Notify the official listed above and state reason(s) for contesting and the proposed amendment sought.

SOURCE CATEGORIES:

Subject individuals or businesses.

SBA 12

SYSTEM NAME:

Equal Employment Opportunity Pre-Complaint Counseling—SBA 12.

SYSTEM LOCATION:

Headquarters and Field Offices. See Appendix A.

CATEGORIES OF INDIVIDUALS COVERED BY THE SYSTEM INCLUDES:

Current/former SBA employees, members of a group (class complaints) who have requested counseling regarding employment discrimination.

CATEGORIES OF RECORDS IN THE SYSTEM INCLUDES:

Case files may include employee and interview statements. The Equal Employment Opportunity (EEO) Counselor's Report becomes part of the EEO Complaint case.

AUTHORITY FOR MAINTENANCE OF THE SYSTEM:

29 CFR part 1611.

ROUTINE USES OF RECORDS MAINTAINED IN THE SYSTEM, INCLUDING CATEGORIES OF USERS AND THE PURPOSES OF SUCH USES, THESE RECORDS MAY BE USED, DISCLOSED OR REFERRED:

a. To report counseling activity to the Office of Equal Employment Opportunity and Civil Rights Compliance (EEO/CRC).

b. To a Congressional office from an individual's record, when the office is inquiring on the individual's behalf; the Member's access rights are no greater than the individual's.

c. To Agency volunteers, interns, grantees, experts and contractors who have been engaged by the Agency to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By employee name.

SAFEGUARDS:

Access and use is limited to persons with official need to know; computers are protected by password and user identification code.

RETENTION AND DISPOSAL:

In accordance with National Archives and Records Administration General Records Schedule 1.25.a.

SYSTEM MANAGER(S) AND ADDRESS:

Assistant Administrator for EEO&CRC and Field Office Systems Managers. See Appendix A.

NOTIFICATION PROCEDURES:

An individual may submit a record inquiry either in person or in writing to the Systems Manager or PA Officer.

ACCESS PROCEDURES:

Systems Manager or PA Officer will determine procedures.

CONTESTING PROCEDURES:

Notify the official listed above and state reason(s) for contesting and the proposed amendment sought.

SOURCE CATEGORIES:

Employee requesting counseling, other employees, EEO Counselor, personnel and employment records.

SBA 13

SYSTEM NAME:

Equal Employment Opportunity Complaint Cases—SBA 13.

SYSTEM LOCATION:

Headquarters (HQ). See Appendix A.

CATEGORIES OF INDIVIDUALS COVERED BY THE SYSTEM INCLUDES:

Current/former SBA employees and/or members of a class complaint who have requested counseling regarding employment discrimination.

CATEGORIES OF RECORDS IN THE SYSTEM INCLUDES:

Complaint files, Equal Employment Opportunity (EEO) Counselor's Report, information from investigations, notes, hearing report, Hearing Examiner's recommendations and Agency action. Closed cases are included.

AUTHORITY FOR MAINTENANCE OF THE SYSTEM:

29 CFR part 1611.

ROUTINE USES OF RECORDS MAINTAINED IN THE SYSTEM, INCLUDING CATEGORIES OF USERS AND THE PURPOSES OF SUCH USES, THESE RECORDS MAY BE USED, DISCLOSED OR REFERRED:

a. To report to the Equal Employment Opportunity Commission (EEOC).

b. To the EEOC when there is a hearing, these records will be used in the case.

c. To the EEOC when a complaint is appealed, these records will be used by the Office of Equal Employment Opportunity and Civil Rights Compliance (EEO/CRC) in their decision making.

d. To the Office of General Counsel and the Department of Justice (DOJ) when a complaint results in a suit in a Federal court, these records will be referred and used to prepare and present the case in court.

e. To a Congressional office from an individual's record, when the office is inquiring on the individual's behalf; the Member's access rights are no greater than the individual's.

f. To Agency volunteers, interns, grantees, experts and contractors who have been engaged by the Agency to assist in the performance of a service related to this system of records and who need access to the records in order to perform this activity. Recipients of these records shall be required to comply with the requirements of the Privacy Act of 1974, as amended, 5 U.S.C. 552a.

g. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

h. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By name of complainant.

SAFEGUARDS:

Access and use is limited to persons with official need to know; computers are protected by password and user identification codes.

RETENTION AND DISPOSAL:

In accordance with National Archives and Records Administration General Records Schedule 1.25.a.

SYSTEM MANAGER(S) AND ADDRESS:

Assistant Administrator for EEO/CRC and Field Office Systems Managers and the Office of the Inspector General (OIG). See Appendix A.

NOTIFICATION PROCEDURES:

An individual may submit a record inquiry either in person or in writing to the Systems Manager or PA Officer. See Appendix A.

ACCESS PROCEDURES:

Systems Manager or PA Officer will determine procedures.

CONTESTING PROCEDURES:

Notify the official listed above and state reason(s) for contesting and the proposed amendment sought.

SOURCE CATEGORY:

Complainant, witnesses, hearing transcript, personnel and employment records, examiner's recommendations and agency investigation.

SYSTEMS EXEMPTED FROM CERTAIN PROVISIONS OF THE ACT:

(1) Pursuant to 5 U.S.C. 552a(j)(2), records in this system of records which belong to the OIG are exempt from the application of all provisions of section 552a except sections (b), (c)(1) and (2), (e)(4)(A) through (F),(e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the Office of the Inspector General's criminal law enforcement function.

(2) Pursuant to 5 U.S.C. 552a(k)(2)and (k)(5), except as otherwise provided therein, all OIG's investigatory material compiled for law enforcement purposes for the purpose of determining suitability, eligibility, or qualifications for Federal civilian employment, Federal contracts, or access to classified information contained in this system of records is exempt from sections 3(c)(3), (d), (e)(1), (e)(4)(G) through (I), and (f) of the PA, 5 U.S.C. 552a (c)(3), (d), (e)(1), (e)(4)(G) through (I) and (f). This exemption is necessary in order to protect the confidentiality of sources of information and to maintain access to sources necessary in making determinations of suitability for employment.

SBA 14

SYSTEM NAME:

Freedom of Information and Privacy Acts Records—SBA 14.

SYSTEM LOCATION:

Headquarters (HQ) and Field Offices. See Appendix A.

CATEGORIES OF INDIVIDUALS COVERED BY THE SYSTEM INCLUDES:

Persons who have submitted requests or appeals under either of the Acts.

CATEGORIES OF RECORDS IN THE SYSTEM INCLUDES:

Files created for Freedom of Information/Privacy Acts (FOI/PA) appeals and agency-wide database to track FOI/PA requests and appeals.

AUTHORITY FOR MAINTENANCE OF THE SYSTEM:

44 U.S.C. 3101, 15 U.S.C. 634(b)(6), 5 U.S.C. 552 and 5 U.S.C. 552a.

ROUTINE USES OF RECORDS MAINTAINED IN THE SYSTEM, INCLUDING CATEGORIES OF USERS AND THE PURPOSES OF SUCH USES, THESE RECORDS MAY BE USED, DISCLOSED OR REFERRED:

a. To review individual cases, keep logs and records, comply with statutory time limitations and prepare mandated reports.

b. To the Federal, State, local or foreign agency or professional organization, including SBA offices, which investigates prosecutes or enforces violations, statutes, rules, regulations or orders issued when the Agency identifies a violation or potential violation of law whether arising by general or program statute, or by regulation, rule or order.

c. To a Congressional office from an individual's record, when the office is inquiring on the individual's behalf; the Member's access rights are no greater than the individual's.

d. To agency personnel responsible for bringing Program Civil Remedies Act litigation to the tribunal hearing litigation or any appeals and to counsel for the defendant party in any such litigation.

e. To a grand jury agent pursuant to a Federal or State grand jury subpoena or to a prosecution request that records be released for introduction to a grand jury.

f. To a Federal agency which has the authority to subpoena other Federal agencies records and has issued a valid subpoena.

g. To the public pursuant to the provisions of the FOIA, 5 U.S.C. 552.

h. To the Department of Justice (DOJ) in order to obtain that department's advice regarding an agency's FOIA disclosure obligations.

i. To the Office of Management and Budget to obtain that office's advice regarding an agency's PA obligations.

j. To Agency volunteers, interns, grantees, experts and contractors who have been engaged by the Agency to assist in the performance of a service related to this system of records and who need access to the records in order to perform this activity. Recipients of these records shall be required to comply with the requirements of the Privacy Act of 1974, as amended, 5 U.S.C. 552a.

k. To the DOJ when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

l. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Locked file cabinets and electronic files.

RETRIEVAL:

By name or database number.

SAFEGUARDS:

Access and use limited to persons with official need to know; computers are protected by password and user identification codes.

RETENTION AND DISPOSAL:

Retention is in accordance with National Archives and Records Administration's General Records Schedule 14.

SYSTEM MANAGER(S) AND ADDRESS:

PA Officer for HQ records and Field Managers for field records. See Appendix A.

NOTIFICATION PROCEDURES:

An individual may submit a record inquiry in person or in writing to the Systems Manager.

ACCESS PROCEDURES:

The Systems Manager or PA Officer will determine procedures.

CONTESTING PROCEDURES:

Notify the official listed above and state reason(s) for contesting and the proposed amendment sought.

SOURCE CATEGORIES:

Correspondence submitted directly to and replies from the SBA.

SBA 15

SYSTEM NAME:

Grievances and Appeals—SBA 15.

SYSTEM LOCATION:

Servicing Personnel Office and the Office of Hearings and Appeals (OHA) where grievances or appeals have been filed. See Appendix A.

CATEGORIES OF INDIVIDUALS COVERED BY THE SYSTEM INCLUDES:

SBA employees who have filed grievances or disputes under applicable procedures or Personnel Practices Appeals Procedures.

CATEGORIES OF RECORDS IN THE SYSTEM INCLUDES:

Correspondence, supporting documents, hearing transcripts, investigation appeal information and decisions.

AUTHORITY FOR MAINTENANCE OF THE SYSTEM:

15 U.S.C. 634(b)(6), 44 U.S.C. 3101, Collective Bargaining Agreements with Unions which represent SBA employees, SOP 37 71-1 and 13 CFR part 134.

ROUTINE USES OF RECORDS MAINTAINED IN THE SYSTEM, INCLUDING CATEGORIES OF USERS AND THE PURPOSES OF SUCH USES, THESE RECORDS MAY BE USED, DISCLOSED OR REFERRED:

a. To the Union pursuant to the grievance procedure.

b. To the Office of Personnel Management (OPM) or used in reporting to the OPM on labor-management relations activity.

c. To a Hearing Examiner from the record of an individual in response to another Agency's inquiry, pursuant to established procedures.

d. To a Congressional office from an individual's record, when the office is inquiring on the individual's behalf; the Member's access rights are no greater than the individual's.

e. To Agency volunteers, interns, grantees, experts and contractors who have been engaged by the Agency to assist in the performance of a service related to this system of records and who need access to the records in order to perform this activity. Recipients of these records shall be required to comply with the requirements of the Privacy Act of 1974, as amended, 5 U.S.C. 552a.

f. To the Office of the Special Counsel for any purpose consistent with their mission.

g. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

h. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

Name of filing employee.

SAFEGUARDS:

Access and use limited to persons whose official need to know; computers are protected by password and user identification codes.

RETENTION AND DISPOSAL:

Retention is in accordance with Standard Operating Procedure 00 41 2 30:02.

SYSTEM MANAGER(S) AND ADDRESS:

Assistant Administrator for OHA, Chief Human Capital Officer and Field Managers. See Appendix A.

NOTIFICATION PROCEDURE:

An individual may submit a record inquiry either in person or in writing to the Systems Manager or PA Officer.

ACCESS PROCEDURES:

Systems Manager or PA Officer will determine procedures.

CONTESTING PROCEDURES:

Notify the official listed above and state reason(s) for contesting and the proposed amendment sought.

SOURCE CATEGORIES:

Grievants, appellants, employees, Union, personnel and employment records.

SBA 16

SYSTEM NAME:

Investigative Files—SBA 16.

SYSTEM LOCATION:

Office of the Inspector General (OIG), Investigations Division and Federal Records Center (FRC). See Appendix A.

CATEGORIES OF INDIVIDUALS COVERED BY THE SYSTEM INCLUDES:

Persons against whom are made allegations that are within the jurisdiction of the OIG to investigate; persons identified as making such allegations; or persons cross-referenced in investigative file or subsequent investigations. Applicants to, and participants in SBA programs, their principals, representatives and resource partners; contractors and parties to cooperative agreements and their principals, representatives, and other interested parties; governmental entities; SBA employees, members of the Advisory Councils, Service Corps of Retired Executive volunteers in connection with allegations of wrongdoing that are within the jurisdiction of the OIG to investigate.

CATEGORIES OF RECORDS IN THE SYSTEM INCLUDES:

Material provide to, gathered or created by OIG in investigating, or otherwise dealing with allegations that are within the jurisdiction of the OIG to investigate, documentation of allegations, consultations, decisions, interviews, records reviews, reports of investigations, and various correspondence.

AUTHORITY FOR MAINTENANCE OF THE SYSTEM:

5 U.S.C. App. 3 (The Inspector General Act of 1978), 15 U.S.C. Chapters 14A and 14B and 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a grand jury, court, magistrate or administrative tribunal, including disclosures to opposing counsel in the course of such proceedings or in settlement negotiations.

c. To other Federal agencies conducting background checks; only to the extent the information is relevant to the requesting agencies' function.

d. To any Federal, State, local, foreign or international agency, in connection with such entity's assignment, hiring and retention of an individual, issuance of a security clearance, reporting of an investigation of an individual, letting of a contract or issuance of a license, grant or other benefit, to the extent that the information is relevant and necessary to such agency's decision on the matter.

e. To a domestic, foreign, or international government agency maintaining civil, criminal, relevant enforcement or other pertinent information, for the assignment hiring or retention of an individual, the issuance of a security clearance, the letting of a contract, or the issuance of a license, grant, or other benefit.

f. To Federal, State or local bar associations and other professional regulatory or disciplinary bodies for use in disciplinary proceedings and inquiries.

g. To a Congressional office from an individual's record, when the office is inquiring on the individual's behalf; the Member's access rights are no greater than the individual's.

h. To the General Accounting Office (GAO) for periodic reviews of SBA.

i. To the Office of Government Ethics for any purpose consistent with their mission.

j. To the GAO, and to the General Services Administration's Board of Contract Appeals in bid protest cases involving an agency procurement.

k. To any Federal agency which has the authority to subpoena other Federal agencies records and has issued a valid subpoena.

l. To the Department of Treasury and the Department of Justice (DOJ) when an agency is seeking an ex parte court order to obtain taxpayer information from the Internal Revenue Service.

m. To debt collection contractors for collecting delinquent debts as authorized by the Debt Collection Act of 1982, 31 U.S.C. 3718.

n. To a “consumer reporting agency” as that term is defined in the Fair Credit Reporting Act (15 U.S.C. 1681 a (f) and the Federal Claims Collection Act of 1966 (31 U.S.C. 701(a)(3)), to obtain information during an investigation or audit.

o. To agency personnel responsible for Program Civil Remedies Act litigation, the tribunal and defendant's counsel.

p. To a grand jury agent pursuant either to a Federal or State grand jury subpoena or to a prosecution request that records be introduced to a grand jury.

q. To Agency volunteers, interns, grantees, experts and contractors who have been engaged by the Agency to assist in the performance of a service related to this system of records and who need access to the records in order to perform this activity. Recipients of these records shall be required to comply with the requirements of the Privacy Act of 1974, as amended, 5 U.S.C. 552a.

r. To the DOJ when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

s. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

File folders in filing cabinets and safes, and electronic files.

RETRIEVAL:

Indexed by name of the investigated individual and cross-referenced to the number(s) of the investigative file(s) containing related materials.

SAFEGUARDS:

All filing cabinets are locked. Access to and use limited to those persons with official need to know; computers are protected by password and user identification codes.

RETENTION AND DISPOSAL:

In accordance with Standard Operating Procedure 00 41 2 Item Nos. 90:10 and 90:12. Cut off at the end of the calendar year. Transfer to FRC 6 years after cutoff. Destroy 15 years after cutoff.

SYSTEM MANAGER(S) AND ADDRESS:

Assistant Inspector General for Investigations or designee. See Appendix A.

NOTIFICATION PROCEDURES:

An individual may submit a record inquiry in writing or in person to the Systems Manager or PA Officer.

ACCESS PROCEDURES:

Systems Manager or PA Officer will determine procedures.

CONTESTING PROCEDURES:

Notify the official listed above and state reason(s) for contesting and the proposed amendment sought.

SOURCE CATEGORIES:

Subject individual, Agency personnel, informants, the Federal Bureau of Investigation and other investigative Government agencies.

SYSTEMS EXEMPTED FROM CERTAIN PROVISIONS OF THE ACT:

(1) Pursuant to 5 U.S.C. 552a(j)(2), records in this system of records are exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status;

(B) information compiled for the purpose of criminal investigation, including reports of informants and investigators, and associated with an identifiable individual; or (C) reports identifiable to an individual compiled at any stage of the process of enforcement of the criminal laws from arrest or indictment through release from supervision. This system is exempted in order to maintain the efficacy and integrity of the Office of the Inspector General's criminal law enforcement function.

(2) Pursuant to 5 U.S.C. 552(a)(k)(2) and (k)(5), all investigatory material in the record compiled for law enforcement purposes or for the purpose of determining suitability, eligibility, or qualifications for Federal civilian employment, Federal contracts, or access to classified information is exempt from the notification, access, and contest requirements (under 5 U.S.C. 552a (c)(3), (d), (e)(1), (e)(4)(G), (H), and (I), and (f) of the Agency regulations. This exemption is necessary in order to fulfill commitments made to protect the confidentiality of sources and to protect subjects of investigations from frustrating the investigatory process.

SBA 17

SYSTEM NAME:

Investigations Division Management Information System—SBA 17.

SYSTEM LOCATION:

Office of the Inspector General (OIG), Investigations Division. See Appendix A.

CATEGORIES OF INDIVIDUALS COVERED IN THE SYSTEM INCLUDES:

Persons against whom are made allegations that are within the OIG's jurisdiction to investigate, persons identified as making allegations or persons who are cross-referenced to an investigative file, principals, representatives of applicants, participants, contractors, grantees, participants in cooperative agreements, resource partners and their principals and representatives and other interested parties participating in SBA programs, and members of Advisory Councils and SCORE/ACE volunteers.

CATEGORIES OF RECORDS IN THE SYSTEM INCLUDES:

Material gathered or created during preparation for, conduct of and follow-up on investigations conducted by OIG, the FBI and other Federal, State, local, or foreign regulatory or law enforcement agency. May include alphabetical indices of names and case numbers and information about allegations, decisions, investigative assignments and special techniques, and reports and results of investigations and time spent by investigators.

AUTHORITY FOR MAINTENANCE OF THE SYSTEM:

5 U.S.C. App. 3 (The Inspector General Act of 1978), 15 U.S.C. Chapters 14A and 14B; 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, opposing counsel during such proceedings or in settlement negotiations when presenting evidence.

c. To the General Accounting Office for periodic reviews of the SBA.

d. To the Office of Government Ethics for any purpose consistent with their mission.

e. To Agency volunteers, interns, grantees, experts and contractors who have been engaged by the Agency to assist in the performance of a service related to this system of records and who need access to the records in order to perform this activity. Recipients of these records shall be required to comply with the requirements of the Privacy Act of 1974, as amended, 5 U.S.C. 552a.

f. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

g. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Self-contained system and computer disks.

RETRIEVAL:

Subjects' name, company name, case number, agent's name, Social Security Number or agent's identification number.

SAFEGUARDS:

Access to and use of these records is limited to those persons whose official duties require such access; computers are protected by password and user identification codes.

RETENTION AND DISPOSAL:

In accordance with Standard Operating Procedure 00 41 2 Items 90:10 and 90:12. Retained on computer disks indefinitely. Hard copies are made monthly, retained for five years before being destroyed.

SYSTEM MANAGER(S) AND ADDRESS:

Assistant Inspector General for Investigations or designee. See Appendix A.

NOTIFICATION PROCEDURES:

An individual may submit a record inquiry either in person or in writing to the Systems Manager or PA Officer.

ACCESS PROCEDURES:

Systems Manager or PA Officer will determine procedures.

CONTESTING PROCEDURES:

Notify the official listed above and state reason(s) for contesting and the proposed amendment sought.

SOURCE CATEGORIES:

Subject individual, Agency personnel, informants, the Federal Bureau of Investigation and other investigative Government agencies.

SYSTEMS EXEMPTED FROM CERTAIN PROVISIONS OF THE ACT:

Pursuant to 5 U.S.C. 552(a)(k)(2) and (k)(5), all investigatory material in the record compiled for law enforcement purposes or for the purpose of determining suitability, eligibility, or qualifications for Federal civilian employment, Federal contracts, or access to classified requirements (under 5 U.S.C. 552a (c)(3), (d), (e)(1), (e)(4)(G), (H), and (I), and (f) of the Agency regulations. This exemption is necessary in order to fulfill commitments made to protect the confidentiality of sources and to protect subjects of investigations from frustrating the investigatory process.

SBA 18

SYSTEM NAME:

Legal Work Files on Personnel Cases—SBA 18.

SYSTEM LOCATION:

Headquarters (HQ), Office of the Inspector General (OIG) and Field Offices. See Appendix A.

CATEGORIES OF INDIVIDUALS COVERED BY THE SYSTEM:

SBA employees.

CATEGORIES OF RECORDS IN THE SYSTEM INCLUDES:

Opinions, advice, transcripts, witness statements, etc. maintained by the Office of General Counsel (OGC) on personnel cases.

AUTHORITY FOR MAINTENANCE OF THE SYSTEM:

15 U.S.C. 634(b)(6).

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when the office is inquiring on the individual's behalf; the Member's access rights are no greater than the individual's.

b. To Agency volunteers, interns, grantees, experts and contractors who have been engaged by the Agency to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

d. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By employee name.

SAFEGUARDS:

Access to and use limited to those persons with official need to know to know; computers are protected by password and user identification codes.

RETENTION AND DISPOSAL:

In accordance with Standard Operating Procedure 00 41 2 70:01, 70:07 and 70:11.

SYSTEM MANAGER(S) AND ADDRESS:

OGC and OIG. See Appendix A.

NOTIFICATION PROCEDURES:

An individual may submit a record inquiry either in person or in writing to the Systems Manager or the PA Officer.

ACCESS PROCEDURES:

Systems Manager or PA Officer will determine procedures.

CONTESTING PROCEDURES:

Notify the official listed above, state the reason(s) for contesting it and the proposed amendment sought.

SOURCE CATEGORIES:

Office of Human Capital Management and third party witnesses.

SBA 19

SYSTEM NAME:

Litigation and Claims Files—SBA 19.

SYSTEM LOCATION:

Headquarters (HQ), Field Offices, Disaster Area Offices (DAO) and Disaster Home Loan Servicing Centers (DHLSC). See Appendix A for addresses.

CATEGORIES OF INDIVIDUALS COVERED BY THE SYSTEM INCLUDES:

All Disaster Home Loan recipients and individuals involved in lawsuits or claims pertaining to SBA.

CATEGORIES OF RECORDS IN THE SYSTEM INCLUDES:

Records relating to recipients classified as “in litigation” and all individuals involved in claims by or against the Agency. Wherever applicable: affidavits, briefs, pleadings, depositions and interrogatories, loan status summaries with litigation progress, opinions, copies of Department of Justice (DOJ) papers concerning loan case litigation, summary foreclosures, chattel lien searches, requests and responses under the Freedom of Information Act, loan modifications, recipients' attorneys' names, amount of liability, narrative report of actual and contingent liabilities and related correspondence.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or organization that investigates, prosecutes or enforces violations, statutes, rules, regulations or orders issued when the agency identifies a violation or potential violation of law arising by general or program statute, or by regulation, rule or order.

b. To the Federal, State or local private credit agency maintaining civil, criminal or other relevant information to determine an applicant's suitability for a loan; this may be requested individually or part of a computer match program.

c. To a request from a State or Federal agency in connection with the issuance of a grant, loan or other benefit by that agency which is relevant to their decision on the matter; this may be requested individually or part of a computer match. SBA will provide information to the Department of Housing and Urban Development (HUD) to be maintained in a central repository where agencies can request information on a case-by-case basis or as part of a computer match.

d. To another Federal agency, including Defense Manpower Data Center, U.S. Postal Service and HUD, to conduct computer matching programs to locate delinquent SBA borrowers who are receiving Federal salaries or benefit payments.

e. To a consumer reporting agency.

f. To a court, magistrate, grand jury or administrative tribunal, opposing counsel during such proceedings or in settlement negotiations when presenting evidence.

g. To a Congressional office from an individual's record, when the office is inquiring on the individual's behalf; the Member's access rights are no greater than the individual's.

h. To a grand jury agent pursuant either to a federal or state grand jury subpoena or to a prosecution request that such record be introduced to a grant jury.

i. To Agency volunteers, interns, grantees, experts and contractors who have been engaged by the Agency to assist in the performance of a service related to this system of records and who need access to the records in order to perform this activity. Recipients of these records shall be required to comply with the requirements of the Privacy Act of 1974, as amended, 5 U.S.C. 552a.

j. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or here individual capacity where the DOJ has agreed to represent the employee; or

(4) The United States Government, where the agency determines that litigation is likely to affect the agency or any of its components.

k. In a proceeding before a court, or adjudicative body, or a dispute resolution body before which the agency is authorized to appear or before which any of the following is a party to litigation or has an interest in litigation, provided, however, that the agency determines that the use of such records is relevant and necessary to the litigation, and that, in each case, the agency determines that disclosures of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By recipient and claimant name.

SAFEGUARDS:

Access to and use limited to those persons with official need to know to know; computers are protected by password and user identification codes.

RETENTION AND DISPOSAL:

In accordance with SOP 00 41 2 70:09 and 70:13.

SYSTEM MANAGER(S) AND ADDRESS:

DAO and DHLSC Directors and Office of General Counsel. See Appendix A.

NOTIFICATION PROCEDURES:

An individual may submit a record inquiry in person or in writing to the Systems Manager or PA Officer.

ACCESS PROCEDURES:

Systems Manager or PA Officer will determine procedures.

CONTESTING PROCEDURES:

Notify the official listed above, state the reason(s) for contesting it and the proposed amendment sought.

RETENTION AND DISPOSAL:

In accordance with Standard Operating Procedure 00 41 2 Item Nos. 70:07, 70:08, 70:09, 70:10, 70:11, 70:13, 70:14 and 70:15, OGC NI-309-88-1, OGC NI 309-99-1, OGC NI-309-88-1. In accordance with National Archives and Records Administration General Records Schedule 14.11.

SYSTEM MANAGER(S) AND ADDRESS:

OGC and Field Office Systems Manager. See Appendix A.

SOURCE CATEGORIES:

Subject employee, Agency personnel, the public, the DOJ, bankruptcy notices, court records, title companies, and Loan Case Files.

SYSTEM EXEMPTED FROM CERTAIN PROVISIONS OF THE ACT:

Pursuant to 5 U.S.C. 552a(k)(2) and (k)(5), all investigatory material in the record compiled for law enforcement purposes or for the purpose of determining suitability, eligibility, or qualifications for Federal civilian employment, Federal contracts, or access to classified information is exempt from the notification, access, and contest requirements (under 5 U.S.C. 552a(c)(3), (d), (e)(1), (e)(4)(G), (H), and (I), and (f) of the Agency regulations. This exemption is necessary in order for the Agency legal staff to properly perform its functions.

SBA 20

SYSTEM NAME:

Disaster Loan Case File—SBA 20.

SYSTEM LOCATION:

SBA Disaster Area Offices and the Department of Housing and Urban Development (HUD). See Appendix A for SBA addresses; HUD addresses are published by HUD.

CATEGORIES OF INDIVIDUALS COVERED BY THE SYSTEM INCLUDES:

Applicants and recipients of disaster home loans.

CATEGORIES OF RECORDS IN THE SYSTEM INCLUDES:

Information relating to applicants and recipients of a disaster home loan from the time of application until the date of payment in full or charge-off is approved; or until the date of an official denial if declined. These records include: Loan applications, supporting documents, personal history, financial statements, credit information investigative reports, appraisers' reports, waivers, loan record transfers, correspondence, recommendations, authorizations, disbursement amount, term and rate, payment history, collateral, UCC filings and re-filings, collection and liquidation activities, financial statements, settlements and compromises, participating bank information, field visit reports, borrowers insurance information and loan accounting information.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the public on approved loans, information is limited to recipient name and address, term and rate of the loan, and the apportioned amount of the loan for real or personal property loss.

b. To provide information to potential investors who are interested in bidding on loans made available by the Agency in a sale of assets. Investors will be required to execute a confidentiality agreement prior to reviewing any record or information.

c. To the public, under certain conditions, on losses incurred by the government due to non-payment of obligations by individuals. In these cases, the name and address of the obligator and amount incurred (amount written-off from Agency assets) will not be released to the public unless the borrower consents to disclosure or is required pursuant to the Freedom of Information Act.

d. To the Federal, State, local or foreign agency or professional organization which has responsibility for investigating, prosecuting or enforcing violations, statute rules, regulations or orders issued when the Agency locates a violation or potential violation of law whether arising by general or program statute, or by regulation, rule or order.

e. To request information from a Federal, State or local agency or a private credit agency maintaining civil, criminal or other information relevant to determining an applicant's suitability for a loan; this may be requested individually or part of a computer match.

f. To provide data to the General Accounting Office for periodic reviews of SBA.

g. To a request from a State or Federal agency in connection with the issuance of a grant, loan or other benefit by that agency which is relevant to their decision on the matter; this may be requested individually or part of a computer match. SBA will provide information to HUD to be maintained in a central repository where agencies can request information on a case-by-case basis or as part of a computer match.

h. To another Federal agency, HUD, to conduct computer matching programs to locate delinquent SBA borrowers who are receiving Federal salaries or benefit payments and programs to identify delinquent SBA borrowers receiving federal salaries or benefit payments. Disclosure will be made if the records indicate the loan is in default, at least 30 days past due or to update a previous disclosure. SBA will make the disclosures to obtain repayments of debts under the provisions of the Debt Collection Act of 1982 by voluntary repayment, or by administrative or salary offset procedures.

i. To a consumer reporting agency.

j. To provide the Internal Revenue Service (IRS) with access to an individual's records for an official audit to the extent the information is relevant to the IRS's function.

k. To a court, magistrate, grand jury or administrative tribunal, opposing counsel during such proceedings or in settlement negotiations when presenting evidence.

l. To a Congressional office from an individual's record, when the office is inquiring on the individual's behalf; the Member's access rights are no greater than the individual's.

m. To Agency volunteers, interns, grantees, experts and contractors who have been engaged by the Agency to assist in the performance of a service related to this system of records and who need access to the records in order to perform this activity. Recipients of these records shall be required to comply with the requirements of the Privacy Act of 1974, as amended, 5 U.S.C. 552a.

n. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

o. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By applicant/recipient name, cross-referenced loan number or borrower's Social Security Number.

SAFEGUARDS

Access and use limited to persons with official need to know to know; computers are protected by password and user identification codes.

RETENTION AND DISPOSAL:

In accordance with Standard Operating Procedure 00 41 2 Item Nos. 70:09 and 70:13.

SYSTEM MANAGER(S) AND ADDRESS:

Disaster Area Office Director. See Appendix A.

NOTIFICATION PROCEDURES:

An individual may submit a record inquiry in person or in writing to the Systems Manager of PA Officer. See Appendix A.

ACCESS PROCEDURES:

Systems Manager or PA Officer will determine procedures.

CONTESTING PROCEDURES:

Notify the official listed above, state the reason(s) for contesting it and the proposed amendment sought.

SOURCE CATEGORIES:

Subject, individuals, Agency employees, financial institution, law enforcement agencies, and Federal Emergency Management Agency.

SBA 21

SYSTEM NAME:

Loan System—SBA 21.

SYSTEM LOCATION:

Headquarters (HQ), Regional Offices, District Offices, Branch Offices, Processing Centers, and Servicing Centers. See Appendix A.

CATEGORIES OF INDIVIDUALS COVERED BY THE SYSTEM:

Individuals (i.e., borrowers, guarantors, principals of businesses named in loan records), throughout the life of SBA's interest in a loan, under all of the Agency's business (non-disaster) loan programs.

CATEGORIES OF RECORDS IN THE SYSTEM:

Personal and commercial information (i.e., credit history, financial information, identifying number or other personal identifier ) on individuals named in business loan files, throughout the life of SBA's interest in the loan, under all of the Agency's business (non-disaster) loan programs.

AUTHORITY FOR MAINTENANCE OF THE SYSTEM:

Public Law 85-536, 15 U.S.C. 631 et seq. (Small Business Act, all provisions relating to loan programs); 44 U.S.C. 3101 (Records Management by Federal Agencies); and Public Law 103-62 (Government Performance and Results Act).

ROUTINE USES OF RECORDS MAINTAINED IN THE SYSTEM, INCLUDING CATEGORIES OF USERS AND THE PURPOSES OF SUCH USES, THESE RECORDS MAY BE USED, DISCLOSED, OR REFERRED:

a. To the SBA Resource Partner, its successors or assigns, (i.e., participating lender, certified development company, micro lender) who initially collected the individual's information for the purpose of making and servicing loans.

b. To a Congressional office from an individual's record when the office is inquiring on the individual's behalf. The Member's access rights are no greater than the individual's.

c. To the Federal, state, local or foreign agency or organization which investigates, prosecutes, or enforces violations, statues, rules, regulations, or orders issued when an agency identifies a violation or potential violation of law, arising by general or program statute, or by regulation, rule, or order.

d. To Agency volunteers, interns, grantees, experts and contractors who have been engaged by the Agency to assist in the performance of a service related to this system of records and who need access to the records in order to perform this activity. Recipients of these records shall be required to comply with the requirements of the Privacy Act of 1974, as amended, 5 U.S.C. 552a.

e. To qualified investors who have signed a confidentiality agreement related to review of files for the purpose of evaluating, negotiating and implementing the purchase of loans from the Agency as a part of the Agency's Asset Sales program.

f. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

g. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

h. To request information from a Federal, State, local agency or a private credit agency maintaining civil, criminal or other information relevant to determining an applicant's suitability for a business loan. This applies to individuals involved in business loans.

i. To a recipient who has provided the agency with advance adequate written assurance that the record will be used solely as a statistical research or reporting record, and the record is to be transferred in a form that is not individually identifiable.

j. To 7(a) and 504 lenders and/or participating contractors for purposes of the Loan and Lender Monitoring System (L/LMS).

POLICIES AND PRACTICES FOR STORING, RETRIEVING, ACCESSING, RETAINING AND DISPOSING OF RECORDS:

STORAGE:

Electronic Records are in a secured server and paper records are in files. Loan files are in a secured area in either locked files or locked file rooms.

RETRIEVABILITY:

Electronic Records: By individual name, personal identifier, SBA Identifier, Participating Lender Identifier, Participating Lender Name, business name, and business identifier.

Paper Records: By individual name, personal identifier and SBA Identifier.

SAFEGUARDS:

Electronic Records: Access and use is limited to Agency officials acting in their official capacities, with a need-to-know, and to SBA Resource Partners. Access and use by SBA Resource Partners will generally be via the Internet, with restricted password(s)/ passcode(s). SBA Resource Partners, their successors or assigns, will have access only to those individual records that were collected by that particular partner.

Information contained in files will be available only to potential asset sale purchasers who have executed a confidentiality agreement. Only SBA employees in the performance of their official duties, who are granted access to the records by Agency issuance of User ID and/or passcode, may amend or review the records.

Paper Records: Access and use is limited to Agency officials acting in their official capacities, with a need-to-know. SBA Resource Partners, their successors or assigns, will have access only to those individual records that were collected by that particular partner. Information contained in loan files will be available only to potential asset sale purchasers who have executed a confidentiality agreement. Only those SBA employees in the performance of their official duties may amend or review the records.

RETENTION AND DISPOSAL:

In accordance with SBA Standard Operating Procedure 00 41 2, Item Nos. 50:04, 50:08, 50:09, 50:10, 50:11, 50:12, 50:13, 50:19, 50:22, 55:02. Records are retained for the life of SBA's interest in the business loan and are disposed of according to the reference in the SOP that pertains to a particular type of record; retention period varies according to the type of record.

SYSTEM MANAGERS AND ADDRESSES:

Associate Administrator for Capital Access, Associate Administrator for Lender Oversight, Associate Administrator for Financial Assistance, Regional Administrators, District Directors, Branch Managers, Loan Service Center Director and Loan Processing Centers Directors. See Appendix A.

NOTIFICATION PROCEDURE:

An individual may submit a written record inquiry to the appropriate Systems Manager or PA Officer.

RECORDS ACCESS PROCEDURES:

Systems Manager or PA Officer will determine procedures.

CONTESTING RECORD PROCEDURES:

Notify the official listed above and state reason(s) for contesting and the proposed amendment sought.

RECORD SOURCE CATEGORIES:

Subject individuals and businesses, financial institutions, credit reporting agencies, law enforcement agencies and SBA resource partners.

SBA 22

SYSTEM NAME:

Outside Employment Files—SBA 22.

SYSTEM LOCATION:

Headquarters (HQ) and Field Offices. See Appendix A.

CATEGORIES OF INDIVIDUALS COVERED BY THE SYSTEM INCLUDES:

SBA employees who have requested permission for outside employment.

CATEGORIES OF RECORDS IN THE SYSTEM INCLUDES:

Correspondence concerning requests for outside employment.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when office is inquiring on the individual's behalf; the Member's access rights are no greater than the individual's.

b. To Agency volunteers, interns, grantees, experts and contractors who have been engaged by the Agency to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

d. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By employee name.

SAFEGUARDS:

Access and use limited to persons with official need to know; computers are protected by password and user identification codes.

RETENTION AND DISPOSAL:

In accordance with Standard Operating Procedure 00 41 2 Item 2 30.01.

SYSTEM MANAGER(S) AND ADDRESS:

HQ and Field Managers. See Appendix A.

NOTIFICATION PROCEDURES:

An individual may submit a record inquiry either in person or in writing to the Systems Manager or PA Officer.

ACCESS PROCEDURES:

Systems Manager or PA Officer will determine procedures.

CONTESTING PROCEDURES:

Notify the official listed above, state the reason(s) for contesting it and the proposed amendment sought.

SOURCE CATEGORIES:

Requesting employee and other Agency personnel.

SBA 23

SYSTEM NAME:

Payroll Files—SBA 23.

SYSTEM LOCATION:

Office of Human Capital Management, Headquarters (HQ). See Appendix A.

CATEGORIES OF INDIVIDUALS COVERED BY THE SYSTEM INCLUDES:

Active and inactive SBA employees.

CATEGORIES OF RECORDS IN THE SYSTEM INCLUDES:

Employee name, Social Security Number (SSN), date of birth, grade, step, and salary; organization, retirement and FICA codes and date as applicable; Federal, State and local tax deductions; savings bond and charity deductions; co-owner and/or beneficiary of bonds, insurance deduction and plan or code; cash award data; union dues deductions; type and amount of allotments; financial institution code and account number; status and data on all types of leave; time and attendance records, including breakdown of hours worked; mailing address; marital status and number of dependents; notification of Personnel Actions; unemployment records; register of separations; annual leave restoration; over-payment indebtedness; correspondence from employees concerning payroll.

AUTHORITY FOR MAINTENANCE OF THE SYSTEM:

Title 6 General Accounting Office (GAO) Policy and Procedures Manual, 31 U.S.C. 285, sections 112(a) and 113 of the Budget and Accounting Procedures Act of 1950 and 5 U.S.C. Chapters 55 through 63.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To transmit data to U.S. Department of Treasury to effect issuance of paychecks to employees and distribution of pay according to employee directions for savings bonds, allotments, financial institutions, and other authorized purposes.

c. To the GAO for audit purposes.

d. To Internal Revenue Service and appropriate State and local authorities when reporting tax withholding; FICA deductions to the Social Security Administration; dues deductions to labor unions; withholdings for health insurance to insurance carriers and the Office of Personnel Management; charity contribution deductions to agents of charitable institutions; annual W-2 statements to taxing authorities and the individual.

e. To a Congressional office from an individual's record, when the office is inquiring on the individual's behalf; the Member's access rights are no greater than the individual's.

f. To the Office of Child Support Enforcement, Administration for Children and Families, Department of Health and Human Services to locate individuals in order to establish paternity and modify orders of child support, identify sources of income, and other child support enforcement actions as required by the Personal Responsibility and Work Opportunity Reconciliation Act (Welfare Reform law, Pub. L. 104-193), SBA will provide the names, SSN, home addresses, dates of birth and hire, quarterly earnings, employer identifying information, and State of hire of employees.

g. To Agency volunteers, interns, grantees, experts and contractors who have been engaged by the Agency to assist in the performance of a service related to this system of records and who need access to the records in order to perform this activity. Recipients of these records shall be required to comply with the requirements of the Privacy Act of 1974, as amended, 5 U.S.C. 552a.

h. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

i. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By employee name and/or SSN.

SAFEGUARDS:

Physical, technical and administrative security is maintained and admission to record storage areas limited to authorized personnel.

RETENTION AND DISPOSAL:

In accordance with National Archives and Records Administration General Record Schedule 2.

SYSTEM MANAGER(S) AND ADDRESS:

Chief Human Capital Officer, Headquarters. See Appendix A.

NOTIFICATION PROCEDURES:

An individual may submit a record inquiry either in person or in writing to the Systems Manager or PA Officer. See Appendix A.

ACCESS PROCEDURES:

Systems Manager or PA Officer will determine procedures.

CONTESTING PROCEDURES:

Notify the official listed above, state the reason(s) for contesting and the proposed amendment sought.

SOURCE CATEGORIES:

Subject employee, individuals, supervisors, timekeepers, official personnel records, and IRS.

SBA 24

SYSTEM NAME:

Personnel Security Files—SBA 24.

SYSTEM LOCATION:

Office of Inspector General (OIG), Investigations Division, Office of Security Operations (OSO). See Appendix A.

CATEGORIES OF INDIVIDUALS COVERED BY THE SYSTEM INCLUDES:

Active and inactive SBA employees.

CATEGORIES OF RECORDS IN THE SYSTEM INCLUDES:

Active and inactive personnel security files, employee or former employee's name, background information, personnel actions, Office of Personnel Management (OPM) and/or authorized contracting firm background investigations.

AUTHORITY FOR MAINTENANCE OF THE SYSTEM:

15 U.S.C. 634(b)(6), 44 U.S.C. 3101, Executive Order 10450.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To other Federal Agencies, upon request, that are conducting background checks.

c. To a court, magistrate, grand jury or administrative tribunal, opposing counsel during such proceedings or in settlement negotiations when presenting evidence.

d. To a Congressional office from an individual's record, when the office is inquiring on the individual's behalf; the Member's access rights are no greater than the individual's.

e. To the Office of Personnel Management in accordance with that agency's authority to evaluate Federal personnel management.

f. To the Merit Systems Protection Board in connection with its consideration of appeals of personnel actions.

g. To physicians conducting fitness for duty examinations.

h. To any Federal, State, local, foreign or international agency, in connection with their assignment, hiring or retention of an individual, issuance of a security clearance, reporting of an investigation of an individual, letting of a contract or issuance of a license, grant or other benefit, to the extent the information is relevant to their decision on the matter.

i. To a grand jury agent pursuant either to a Federal or State grand jury subpoena or to a prosecution request that record be released for introduction to a grand jury.

j. To the Office of Government Ethics for any purpose consistent with their mission.

k. To Agency volunteers, interns, grantees, experts and contractors who have been engaged by the Agency to assist in the performance of a service related to this system of records and who need access to the records in order to perform this activity. Recipients of these records shall be required to comply with the requirements of the Privacy Act of 1974, as amended, 5 U.S.C. 552a.

l. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

m. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Rotary diebold power files and electronic data systems. OPM National Agency checks that are not immediately referred to OPM are maintained in locked safes.

RETRIEVAL:

By employee name.

SAFEGUARDS:

All file cabinets are locked. Access and use limited to persons with official need to know; computers are protected by password and user identification codes.

RETENTION AND DISPOSAL:

Upon separation of an employee from SBA, OIG/OSO destroys all non-derogatory information, derogatory information is retained by OIG/OSO and transferred to Federal Records Centers (FRC) five years after cutoff (date of separation). After 15 years, FRC destroys the files.

SYSTEM MANAGER(S) AND ADDRESS:

Assistant Inspector General for Investigations or designee. See Appendix A.

NOTIFICATION PROCEDURES:

An individual may submit a record inquiry either in person or in writing to the Systems Manager or PA Officer.

ACCESS PROCEDURES:

Inspector General or designee.

CONTESTING PROCEDURES:

Notify the official listed above, state the reason(s) for contesting and the proposed amendment sought.

SOURCE CATEGORIES:

SBA employees, Office of Human Capital Management, witnesses and OPM.

SYSTEMS EXEMPTED FROM CERTAIN PROVISIONS OF THE ACT:

Pursuant to 5 U.S.C. 552a(k)(5), all investigatory material in the record compiled for law enforcement purposes or for the purpose of determining suitability, eligibility, or qualifications for Federal civilian employment, Federal contracts, or access to classified information is exempt from the notification, access and contest requirements (under 5 U.S.C. 552a(c)(3), (d), (e)(1), (e)(4)(G), (H), and (I) and (f) of the Agency regulations. This exemption is necessary in order to fulfill commitments made to protect the confidentiality of sources and to maintain access to sources necessary in making determinations of suitability for employment.

SBA 25

SYSTEM NAME:

Portfolio Reviews—SBA 25.

SYSTEM LOCATION:

Headquarters (HQ), Disaster Area Offices (DAO) and Disaster Home Loan Service Centers (DHLSC). See Appendix A.

CATEGORIES OF INDIVIDUALS COVERED BY THE SYSTEM INCLUDES:

Recipients of SBA Disaster Home Loans.

CATEGORIES OF RECORDS IN THE SYSTEM INCLUDES:

Reports compiled by the Office of Portfolio Review during review of field office loan processing. Disaster Home Loans may be included.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the General Accounting Office in the course their review of the Agency.

b. To a Congressional office from an individual's record, when the office is inquiring on the individual's behalf; the Member's access rights are no greater than the individual's.

c. To Agency volunteers, interns, grantees, experts and contractors who have been engaged by the Agency to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By borrower's name, loan number and Social Security Number.

SAFEGUARDS:

Access and use limited to persons with official need to know to know; personnel screening and computer passwords used to prevent unauthorized disclosure.

RETENTION AND DISPOSAL:

In accordance with SOP 00 41 2 Item Nos. 95:04 and 95:06.

SYSTEM MANAGER(S) AND ADDRESS:

DAO and DHLSC Managers. See Appendix A.

NOTIFICATION PROCEDURES:

An individual may submit a record inquiry either in person or in writing to the Systems Manager or PA Officer.

ACCESS PROCEDURES:

Systems Manager or PA Officer will determine procedures.

CONTESTING PROCEDURES:

Notify the official listed above, state the reason(s) for contesting it and the proposed amendment sought.

SOURCE CATEGORIES:

Office of Portfolio Review, Loan Case Files, SBA personnel and field visits to borrowers.

SBA 26

SYSTEM NAME:

Power of Attorney Files—SBA 26.

SYSTEM LOCATION:

Field Offices. See Appendix A.

CATEGORIES OF INDIVIDUALS COVERED BY THE SYSTEM INCLUDES:

Insurance agents who have the authority to execute a surety bond.

CATEGORIES OF RECORDS IN THE SYSTEM INCLUDES:

Records that identify individuals authorized to execute bonds for surety companies.

AUTHORITY FOR MAINTENANCE OF THE SYSTEM:

15 U.S.C. 634(b)(6) and 44 U.S.C. 3101.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when the office is inquiring on the individual's behalf; the Member's access rights are no greater than the individual's.

b. To Agency volunteers, interns, grantees, experts and contractors who have been engaged by the Agency to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

d. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Paper and electronic files.

RETRIEVAL:

By agent and broker name.

SAFEGUARDS:

Access and use limited to persons with an official need to know; personnel screening and computer passwords used to prevent unauthorized disclosure.

RETENTION AND DISPOSAL:

In accordance with SOP 00 41 2 Item No. 50:21.

SYSTEM MANAGER(S) AND ADDRESSES:

Field Office Systems Managers. See Appendix A.

NOTIFICATION PROCEDURES:

An individual may submit a records inquiry either in person or in writing to the Systems Manager or PA Officer.

ACCESS PROCEDURES:

Systems Manager or PA Officer will determine procedures.

CONTESTING PROCEDURES:

Notify the official listed above, state the reason(s) for contesting it and the proposed amendment sought.

SOURCE CATEGORIES:

Authorizing surety company.

SBA 27

SYSTEM NAME:

Security and Investigations Files—SBA 27.

SYSTEM LOCATION:

Office of the Inspector General (OIG), Investigations Division, Headquarters duty stations in the field and Federal Record Center (FRC). See Appendix for SBA addresses.

CATEGORIES OF INDIVIDUALS COVERED BY THE SYSTEM INCLUDES:

Active SBA employees that are subjects of investigations involving alleged administrative violations or irregularities that may warrant administrative disciplinary action. Inactive SBA employees that are subject of Workers' Compensation Investigations.

CATEGORIES OF RECORDS IN THE SYSTEM INCLUDES:

Material gathered or created during preparation for, conduct of and follow-up on investigations conducted by OIG, the Federal Bureau of Investigation (FBI) and other Federal, State, local or foreign regulatory or law enforcement agencies as well as other material submitted to or gathered by OIG in furtherance of its investigative function. These records include FBI and other Federal, State, local and foreign regulatory or law enforcement investigative reports, personal history statements, background character checks, field investigations, arrest and conviction records, parole and probation data, recommendations and related correspondence.

AUTHORITY FOR MAINTENANCE OF THE SYSTEM:

5 U.S.C. App. 3 (The Inspector General Act of 1978), 15 U.S.C. Chapters 14A and 14B; 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, opposing counsel during such proceedings or in settlement negotiations when presenting evidence.

c. To any private or governmental source or person to secure information relevant to an investigation or audit.

d. To other Federal conducting background checks, to the extent the information is relevant to their function.

e. To any Federal, State, local, foreign, international, private agency or organization for the hiring or retention of an individual, issuance of a security clearance, reporting of an investigation of an individual, letting of a contract or issuance of a license, grant or other benefit, to the extent the information is relevant to their decision on the matter.

f. To Federal, State or local bar associations and other professional regulatory or disciplinary bodies for use in disciplinary proceedings and inquiries.

g. To a Congressional office from an individual's record, when the office is inquiring on the individual's behalf; the Member's access rights are no greater than the individual's.

h. To the General Accounting Office (GAO) for periodic reviews of this SBA.

i. To the Office of Government Ethics for any purpose consistent with their mission.

j. To the GAO and to the General Service Administration's Board of Contract Appeals in bid protest cases involving an agency procurement.

k. To any Federal agency which has the authority to subpoena other Federal agencies records and has issued a valid subpoena.

l. To the Department of the Treasury and the Department of Justice (DOJ) when an agency is seeking an ex parte court order to obtain taxpayer information from the Internal Revenue Service.

m. To debt collection contractors collecting delinquent authorized by the Debt Collection Act of 1982, 31 U.S.C. 3718.

n. To a “consumer reporting agency” as that term is defined in the Fair Credit Reporting Act (15 U.S.C. 1681 a(f)) and the Federal Claims Collection Act of 1966 (31 U.S.C. 701(a)(3)), to obtain information during an investigation or audit.

o. To agency personnel responsible for Program Civil Remedies Act litigation, the tribunal and defendant's counsel.

p. To a grand jury agent pursuant to a Federal or State grand jury subpoena or to a prosecution request that records be introduced to a grand jury.

q. To the public under the Freedom of Information Act (FOIA), 5 U.S.C. 552.

r. To the DOJ to obtain advice regarding FOIA disclosure obligations.

s. To the Office of Management and Budget to obtain that advice regarding PA obligations.

t. To Agency volunteers, interns, grantees, experts and contractors who have been engaged by the Agency to assist in the performance of a service related to this system of records and who need access to the records in order to perform this activity. Recipients of these records shall be required to comply with the requirements of the Privacy Act of 1974, as amended, 5 U.S.C. 552a.

u. To the DOJ when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

v. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORING, RETRIEVING, ACCESSING, RETAINING AND DISPOSING OF RECORDS:

STORAGE:

Rotary diebold power files, file cabinets and electronic systems.

RETRIEVAL:

By name and referenced to the number of the IG file(s) containing related material.

SAFEGUARDS:

Records are stored in locked filing cabinets or in filing cabinets located in locked rooms. Access and use limited to persons with official need to know; computers are protected by password and user identification codes.

RETENTION AND DISPOSAL:

In accordance with Standard Operating Procedure 00 41 2 Item No.s 90:10 and 90:12. Cut off on separation of employee. OIG destroys records of a non-adverse nature. Records containing adverse information are retained by OIG and transferred to FRC five years after cutoff. Destroy 15 years after cutoff.

SYSTEM MANAGER(S) AND ADDRESS:

Assistant Inspector General for Investigations or designee. See Appendix A.

NOTIFICATION PROCEDURE:

An individual may submit a record inquiry either in person or in writing to the Systems Manager or PA Officer. See Appendix A.

ACCESS PROCEDURES:

IG or PA Officer will determine procedures.

CONTESTING PROCEDURES:

Notify the official listed above, state the reason(s) for contesting it and the proposed amendment sought.

SOURCE CATEGORIES:

Subject individual, Agency personnel, informants, the FBI and investigative Government agencies.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552a(k)(2) and (k)(5), except as otherwise provided therein, all investigatory material compiled for law enforcement purposes or for the purpose of determining suitability, eligibility, or qualifications for Federal civilian employment, Federal contracts, or access to classified information contained in this system of records is exempt from sections 3(c)(3), (d), (e)(1), (e)(4)(G) through (I), and (f) of the PA. 5 U.S.C. 552a(c)(3), (d), (e)(1), (e)(4)(G) through (I) and (f). This exemption is necessary in order to protect the confidentiality of sources of information and to maintain access to sources necessary in making determinations of suitability for employment.

SBA 28

SYSTEM NAME:

Small Business Person and Advocate Awards—SBA 28.

SYSTEM LOCATION:

Headquarters (HQ) and Field Offices. See Appendix A.

CATEGORIES OF INDIVIDUALS COVERED BY THE SYSTEM INCLUDES:

Candidates and winners of the Small Business Person of the Year Awards, Advocate Awards, Minority Small Business Person and Phoenix Award.

CATEGORIES OF RECORDS IN THE SYSTEM INCLUDES:

Information regarding the candidacy and selection of Small Business Person of the Year, Minority Small Business Person and Advocate of the Year in field offices, applications, biographical summaries, correspondence, recommendations and narratives. The record of Community Development Awards in HQ includes biographical and qualifying information as well as recommendations from field offices.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the news media for public disclosure of the name, address, and biography of award recipients.

b. To communicate with State and local governments about the status of a particular candidate.

c. To a Congressional office from an individual's record, when the office is inquiring on the individual's behalf; the Member's access rights are no greater than the individual's.

d. To Agency volunteers, interns, grantees, experts and contractors who have been engaged by the Agency to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

f. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES, PRACTICES, RETRIEVAL, ACCESS, RETENTION AND DISPOSAL OF RECORDS:

STORAGE:

Paper and electronic files.

RETRIEVAL:

By individual name.

SAFEGUARDS:

Access and use limited to persons with official need to know; computers are protected by password and user identification codes.

RETENTION AND DISPOSAL:

In accordance with National Archives and Records Administration General Records Schedule 16.8.

SYSTEM MANAGER(S) AND ADDRESS:

Field Office Systems Managers. See Appendix A.

NOTIFICATION PROCEDURES:

An individual may submit a record inquiry either in person or in writing to the Systems Manager or PA Officer.

ACCESS PROCEDURES:

Systems Manager or PA Officer will determine procedures.

CONTESTING PROCEDURES:

Notify the official listed above, state the reason(s) for contesting it and the proposed amendment sought.

SOURCE CATEGORY:

Subject individual, recommendations from individual sponsors, Advisory Council members, Agency personnel, research publications, directories and news media.

SBA 29

SYSTEM NAME:

Standards of Conduct Files—SBA 29.

SYSTEM LOCATION:

Headquarters (HQ), Office of the Inspector General and Field Offices. See Appendix A.

CATEGORIES OF INDIVIDUALS COVERED BY THE SYSTEM:

SBA employees.

CATEGORIES OF RECORDS IN THE SYSTEM INCLUDES:

Confidential employment and financial statements of employees Grade 13 and above, Grade 12 Branch Managers and other designated individuals. Ad Hoc Committee decisions and memoranda concerning standards of conduct questions used as precedent for later decisions (HQ only). Correspondence concerning conflicts of interest. List of all SBA employees who have been indicted or convicted in matters involving SBA business.

AUTHORITY FOR MAINTENANCE OF THE SYSTEM:

13 CFR 105 parts 101 and 401.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, opposing counsel during such proceedings or in settlement negotiations when presenting evidence.

c. To the Office of Personnel Management when requested.

d. To a Congressional office from an individual's record, when the office is inquiring on the individual's behalf; the Member's access rights are no greater than the individual's.

e. To Agency volunteers, interns, grantees, experts and contractors who have been engaged by the Agency to assist in the performance of a service related to this system of records and who need access to the records in order to perform this activity. Recipients of these records shall be required to comply with the requirements of the Privacy Act of 1974, as amended, 5 U.S.C. 552a.

f. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

g. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES, PRACTICES, RETRIEVAL, ACCESS, RETENTION AND DISPOSAL OF RECORDS:

STORAGE:

Paper and electronic files.

RETRIEVAL:

By employee name and/or Social Security Number.

SAFEGUARDS:

Access strictly limited to those employees with an official need to know; computers secured by passwords and user identification codes.

RETENTION AND DISPOSAL:

In accordance with National Archives and Records Administration General Records Schedule 1.1.

SYSTEM MANAGER(S) AND ADDRESS:

Systems Managers. See Appendix A.

NOTIFICATION PROCEDURES:

An individual may submit a record inquiry in person or in writing to the Systems Manager or PA Officer.

ACCESS PROCEDURES:

Systems Manager or PA Officer will determine procedures.

CONTESTING PROCEDURES:

Notify the official listed above, state the reason(s) for contesting it and the proposed amendment sought.

SOURCE CATEGORIES:

Confidential statement of employment and financial interests by the employee. Any adverse information could come from other employees or from a member of the general public with specific knowledge of the matter reported.

SYSTEMS EXEMPTED FROM CERTAIN PROVISIONS OF THE ACT:

Pursuant to 5 U.S.C. 552a(k)(5), all investigatory material in the record compiled for the purpose of determining suitability, eligibility, or qualifications for Federal civilian employment, Federal contracts, or access to classified information is exempt from the notification, access, and contest requirements (under 5 U.S.C. 552a (c)(3), (d), (e)(1), (e)(4)(G), (H), and (I), and (f) of the Agency regulations. This exemption is necessary in order to fulfill communications made to protect the confidentiality of sources and maintain access to sources necessary in making determinations of suitability.

SBA 30

SYSTEM NAME:

Servicing and Contracts System/Minority Enterprise Development Headquarters Reporitory—SBA 30.

SYSTEM LOCATION:

SBA Headquarters and all SBA district offices. See Appendix A.

CATEGORIES OF INDIVIDUALS COVERED BY THE SYSTEM INCLUDE:

Applicants and program participants in SBA's 8(a) Business Development program (8(a).

CATEGORIES OF RECORDS IN THE SYSTEM INCLUDE:

8(a) Business Development program applications, business development working files, business plan files and contract files containing personal and financial information.

AUTHORITY FOR MAINTENANCE OF THE SYSTEM:

Public Law 100-656, Small Business Act 15 U.S.C. 636, section (j) (Technical and Management Assistance); Public Law 100-656, 15 U.S.C. 637, section 8(a) (Business Development).

PURPOSE:

To collect confidential business and financial information used to determine if applicants and current 8(a) participants are in compliance with statutory and regulatory requirements for continued eligibility for program participation. This information facilitates the Agency in carrying out the functions of the Office of 8(a) Business Development.

ROUTINE USES OF RECORDS MAINTAINED IN THE SYSTEM, INCLUDING CATEGORIES OF USERS AND THE PURPOSES OF SUCH USES, THESE RECORDS MAY BE USED, DISCLOSED, OR REFERRED:

a. To a Congressional office, when the office is inquiring on the individual's behalf; the Member's access rights are no greater than the individual's.

b. To Agency volunteers, interns, grantees, experts and contractors who have been engaged by the Agency to assist in the performance of a service related to this system of records and who need access to the records in order to perform this activity. Recipients of these records shall be required to comply with the requirements of the Privacy Act of 1974, as amended, 5 U.S.C. 552a.

c. To the Federal, state, local or foreign agency or professional organization which investigates, prosecutes, or enforces violation or potential violation of law, arising by general or program statute, or by regulation, rule, or order.

d. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

e. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES AND PRACTICES FOR STORAGE, RETRIEVAL, ACCESS, RETENTION AND DISPOSAL OF RECORDS:

STORAGE:

Electronic database records reside on the SBA secured mainframe system.

RETRIEVAL:

Name of individual and business name.

SAFEGUARDS:

Access and use is limited to persons whose official duties designate such a need; personnel screening by password is used to prevent unauthorized disclosure.

RETENTION AND DISPOSAL:

In accordance with SACS/MEDHR NI-309-03-4.

SYSTEM MANAGER(S) AND ADDRESS:

PA Officer, Associate Administrator for 8(a) Business Development and the Field Office Systems Manager. See Appendix A.

NOTIFICATION PROCEDURES:

An individual, who is inquiring whether the System of Records contain information about him or her, may submit a record inquiry either in person or in writing to the PA Officer, Associate Administrator for 8(a) Business Development or, Field Office Systems Manager.

ACCESS PROCEDURES:

PA Officer or Field Office Systems Manager will determine procedures.

CONTESTING PROCEDURES:

Individuals seeking to contest or amend information contained in this system of records should contact the system manager listed above, state the reason(s) for contesting the record and the proposed amendment sought.

RECORD SOURCE CATEGORIES:

Small business concerns who have applied to or are participants in the 8(a) Business Development program.

SBA 31

SYSTEM NAME:

Temporary Disaster Employees—SBA 31.

SYSTEM LOCATION:

Office of Disaster Assistance (ODA): HQ and Field locations. See Appendix A.

CATEGORIES OF INDIVIDUALS COVERED BY THE SYSTEM:

Employees who have been temporarily employed by the ODA.

CATEGORIES OF RECORDS IN THE SYSTEM INCLUDES:

Name, address, telephone number, Social Security Number (SSN), Disaster Area, job series, grade and title, dates of employment, reason for termination, supervisor's name and job and summary of supervisor's evaluation. Possible violations of the Agency's Standards of Conduct (13 CFR Part 105) and information, if any, concerning official investigations and disciplinary actions taken.

AUTHORITY FOR MAINTENANCE OF THE SYSTEM:

15 U.S.C. 634(b)(6), 44 U.S.C. 101.

ROUTINE USES OF RECORDS MAINTAINED IN THE SYSTEM, INCLUDING CATEGORIES OF USERS AND THE PURPOSES OF SUCH USES, THESE RECORDS MAY BE USED, DISCLOSED, OR REFERRED:

a. To verify previous employment with SBA when a former employee is considered for reemployment.

b. To locate current or former employees with special skills or language capabilities needed in specific situations.

c. To a Congressional office from an individual's record, when the office is inquiring on the individual's behalf; the Member's access rights are no greater than the individual's.

d. To Agency volunteers, interns, grantees, experts and contractors who have been engaged by the Agency to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

f. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES, PRACTICES, RETRIEVAL, ACCESS, RETENTION AND DISPOSAL OF RECORDS:

STORAGE:

Paper and electronic files.

RETRIEVAL:

By name and/or SSN.

SAFEGUARDS:

Access and use limited to persons with official need to know; computers are protected by password and user identification codes.

RETENTION AND DISPOSAL:

In accordance with National Records and Archives Administration General Records Schedule 1.10.

SYSTEM MANAGER(S) AND ADDRESS:

Assistant Administrator for Disaster Assistance. See Appendix A.

NOTIFICATION PROCEDURE:

An individual may submit a record inquiry in person or in writing to the Systems Manager or PA Officer.

ACCESS PROCEDURES:

Systems Manager or PA Officer will determine procedures.

CONTESTING PROCEDURES:

Notify the official listed above, state the reason(s) for contesting it and the proposed amendment sought.

SOURCE CATEGORIES:

Disaster Area Offices.

SBA 32

SYSTEM NAME:

Tort Claims—SBA 32.

SYSTEM LOCATION:

Headquarters (HQ), Field Offices, Disaster Area Offices (DAO) and Federal Records Center (FRC). See Appendix A for SBA addresses.

CATEGORIES OF INDIVIDUALS COVERED BY THE SYSTEM INCLUDES:

Government employees and other individuals involved in accidents.

CATEGORIES OF RECORDS IN THE SYSTEM INCLUDES:

Contains reports on accidents which result in tort claims involving the Government.

AUTHORITY FOR MAINTENANCE OF THE SYSTEM:

44 U.S.C. 3101, 42 U.S.C. 3211.

ROUTINE USES OF RECORDS MAINTAINED IN THE SYSTEM, INCLUDING CATEGORIES OF USERS AND THE PURPOSES OF SUCH USES, THESE RECORDS MAY BE USED, DISCLOSED, OR REFERRED:

a. To the Department of Justice (DOJ) for handling of the suit and the preparation and presentation of the case in the event that a tort claim results in a court suit.

b. To the General Services Administration for reporting on accidents and tort claims.

c. To a Congressional office from an individual's record, when the office is inquiring on the individual's behalf; the Member's access rights are no greater than the individual's.

d. To a rental car company responsible for personal injuries and property damage.

e. To Agency volunteers, interns, grantees, experts and contractors who have been engaged by the Agency to assist in the performance of a service related to this system of records and who need access to the records in order to perform this activity. Recipients of these records shall be required to comply with the requirements of the Privacy Act of 1974, as amended, 5 U.S.C. 552a.

f. To the DOJ when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

g. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES, PRACTICES, RETRIEVAL, ACCESS, RETENTION AND DISPOSAL OF RECORDS:

STORAGE:

Paper and electronic files.

RETRIEVAL:

Name of involved individual.

SAFEGUARDS:

Locked cabinets. Access and use limited to persons with official need to know; computers are protected by password and user identification codes.

RETENTION AND DISPOSAL:

In accordance with National Archives and Records Administration General Records Schedule 6.10.

SYSTEM MANAGER(S) AND ADDRESS:

Field Office Systems Manager or DAO Director. See Appendix A.

NOTIFICATION PROCEDURES:

An individual may submit a record inquiry in person or in writing to the Systems Manager or PA Officer.

ACCESS PROCEDURES:

Systems Manager or PA Officer will determine procedures.

CONTESTING PROCEDURES:

Notify the official listed above, state the reason(s) for contesting it and the proposed amendment sought.

SOURCE CATEGORIES:

Individuals involved in accident, witnesses, investigation of the accident.

SBA 33

SYSTEM NAME:

Travel Files—SBA 33.

SYSTEM LOCATION:

All SBA offices, Denver Financial Center, Denver and Federal Records Center (FRC). See Appendix A.

CATEGORIES OF INDIVIDUALS COVERED BY THE SYSTEM:

SBA employees.

CATEGORIES OF RECORDS IN THE SYSTEM INCLUDES:

Employee travel vouchers.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED, OR REFERRED:

a. To the General Accounting Office in the course of an audit of the SBA.

b. To the appropriate Federal, State, local or foreign agency or professional organization which has responsibility for investigating, prosecuting or enforcing violations, statutes rules, regulations or orders issued when the Agency identifies a violation or potential violation of law arising by general or program statute, by regulation, rule or order.

c. To a Congressional office from an individual's record, when the office is inquiring on the individual's behalf; the Member's access rights are no greater than the individual's.

d. To Agency volunteers, interns, grantees, experts and contractors who have been engaged by the Agency to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

f. In a proceeding before a court, or adjudicative body, or a dispute resolution body before which the agency is authorized to appear or before which any of the following is a party to litigation or has an interest in litigation, provided, however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is likely to affect the agency or any of its components.

POLICIES, PRACTICES, RETRIEVAL, ACCESS, RETENTION AND DISPOSAL OF RECORDS:

STORAGE:

Paper and electronic files.

RETRIEVAL:

By employee name.

SAFEGUARDS:

Access and use limited to persons with official need to know; computers are protected by passwords and user identification codes.

RETENTION AND DISPOSAL:

Records are maintained according to National Archives and Records Administration's General Record Schedule 6.1.a.

SYSTEM MANAGER(S) AND ADDRESS:

Chief Financial Officer. See Appendix A for address.

NOTIFICATION PROCEDURES:

An individual may submit a record inquiry in person or in writing to the Systems Manager or PA Officer. See Appendix A.

ACCESS PROCEDURES:

System Manager or PA Officer will determine procedures.

CONTESTING PROCEDURES:

Notify the official listed above, state the reason(s) for contesting it and the proposed amendment sought.

SOURCE CATEGORIES:

Employees Travel Vouchers.

Dated: September 21, 2004.
Delorice P. Ford,
Senior Privacy Act Official, Small Business Administration.

[FR Doc. 04-21670 Filed 9-29-04; 8:45 am]

BILLING CODE 8025-01-P